DEPARTMENT OF COMMERCE

National Oceanic and Atmospheric Administration

50 CFR Part 679

[Docket No. 0910131362-0087-02]

RIN 0648-XS43

Fisheries of the Exclusive Economic Zone Off Alaska; Gulf of Alaska; Final 2010 and 2011 Harvest Specifications for Groundfish

AGENCY: National Marine Fisheries Service (NMFS), National Oceanic and Atmospheric Administration (NOAA), Commerce.

ACTION: Final rule; closures.

SUMMARY: NMFS announces final 2010 and 2011 harvest specifications, apportionments, and Pacific halibut prohibited species catch limits for the groundfish fishery of the Gulf of Alaska (GOA). This action is necessary to establish harvest limits for groundfish during the 2010 and 2011 fishing years and to accomplish the goals and objectives of the Fishery Management Plan (FMP) for Groundfish of the GOA. The intended effect of this action is to conserve and manage the groundfish resources in the GOA in accordance with the Magnuson-Stevens Fishery Conservation and Management Act (Magnuson-Stevens Act).

DATES: Effective at 1200 hrs, Alaska local time (A.l.t.), March 12, 2010, through 2400 hrs, A.l.t., December 31, 2011.

ADDRESSES: Electronic copies of the Final Alaska Groundfish Harvest Specifications Environmental Impact Statement (EIS), Record of Decision (ROD), Supplementary Information Report (SIR) to the EIS, and Final Regulatory Flexibility Analysis (FRFA) prepared for this action are available from http://alaskafisheries.noaa.gov. The final 2009 Stock Assessment and Fishery Evaluation (SAFE) report for the groundfish resources of the GOA, dated November 2009, is available from the North Pacific Fishery Management Council's (the Council) Web site at http://alaskafisheries.noaa.gov/npfmc.

FOR FURTHER INFORMATION CONTACT: Tom Pearson, 907-481-1780, or Obren Davis, 907-586-7228.

SUPPLEMENTARY INFORMATION: NMFS manages the GOA groundfish fisheries in the exclusive economic zone (EEZ) of the GOA under the FMP. The Council prepared the FMP under the authority of the Magnuson-Stevens Act, 16 U.S.C. 1801 et seq. Regulations governing U.S. fisheries and implementing the FMP appear at 50 CFR parts 600, 679, and 680.

The FMP and its implementing regulations require NMFS, after consultation with the Council, to specify the total allowable catch (TAC) for each target species and for the “other species” category, the sum of which must be within the optimum yield (OY) range of 116,000 to 800,000 metric tons (mt). Section 679.20(c)(1) further requires NMFS to publish and solicit public comment on proposed annual TACs, halibut prohibited species catch (PSC) amounts, and seasonal allowances of pollock and inshore/offshore Pacific cod. Upon consideration of public comment received under § 679.20(c)(1), NMFS must publish notice of final specifications for up to two fishing years as annual target and “other species” TAC, per § 679.20(c)(3)(ii). The final specifications set forth in Tables 1 through 28 of this document reflect the outcome of this process, as required at 679.20(c).

The proposed 2010 and 2011 harvest specifications for groundfish of the GOA and Pacific halibut PSC allowances were published in the Federal Register on November 30, 2009 (74 FR 62533). Comments were invited and accepted through December 30, 2009. NMFS received three letters of comment on the proposed specifications. The comments are summarized in the Response to Comments section of this action. In December 2009, NMFS consulted with the Council regarding the 2010 and 2011 harvest specifications. After considering public comments received, as well as biological and economic data that were available at the Council's December 2009 meeting, NMFS is implementing the final 2010 and 2011 harvest specifications, as recommended by the Council. For 2010, the sum of the TAC amounts is 292,087 mt. For 2011, the sum of the TAC amounts is 328,464 mt.

Acceptable Biological Catch (ABC) and TAC Specifications

In December 2009, the Council, its Advisory Panel (AP), and its Scientific and Statistical Committee (SSC), reviewed current biological and harvest information about the condition of groundfish stocks in the GOA. This information was compiled by the Council's GOA Plan Team and was presented in the final 2009 SAFE report for the GOA groundfish fisheries, dated November 2009 (see ADDRESSES). The SAFE report contains a review of the latest scientific analyses and estimates of each species' biomass and other biological parameters, as well as summaries of the available information on the GOA ecosystem and the economic condition of the groundfish fisheries off Alaska. From these data and analyses, the Plan Team estimates an ABC for each species or species category.

The final ABCs and TACs are based on the best available biological and socioeconomic information, including projected biomass trends, information on assumed distribution of stock biomass, and revised methods used to calculate stock biomass. The FMP specifies the formulas, or tiers, to be used to compute ABCs and overfishing levels (OFLs). The formulas applicable to a particular stock or stock complex are determined by the level of reliable information available to fisheries scientists. This information is categorized into a successive series of six tiers to define OFL and ABC amounts, with tier one representing the highest level of information quality available and tier six representing the lowest level of information quality available. The SSC adopted the final 2010 and 2011 OFLs and ABCs recommended by the Plan Team for all groundfish species.

The final TAC recommendations were based on the ABCs as adjusted for other biological and socioeconomic considerations, including maintaining the sum of all TACs within the required OY range of 116,000 to 800,000 mt. The Council adopted the SSC's OFL and ABC recommendations and the AP's TAC recommendations. The Council recommended TACs for 2010 and 2011 that are equal to ABCs for pollock, deep-water flatfish, rex sole, sablefish, Pacific ocean perch, shortraker rockfish, rougheye rockfish, northern rockfish, pelagic shelf rockfish, thornyhead rockfish, demersal shelf rockfish, big skate, longnose skate, and other skates. The Council recommended TACs for 2010 and 2011 that are less than the ABCs for Pacific cod, flathead sole, shallow-water flatfish, arrowtooth flounder, other rockfish, Atka mackerel, and “other species.” None of the Council's recommended TACs for 2010 and 2011 exceed the final ABC for any species or species category. The 2010 and 2011 harvest specifications approved by the Secretary of Commerce (Secretary) are unchanged from those recommended by the Council and are consistent with the preferred harvest strategy alternative in the EIS (see ADDRESSES). NMFS finds that the Council's recommended OFLs, ABCs, and TACs are consistent with the biological condition of the groundfish stocks as described in the 2009 SAFE report and approved by the Council. NMFS also finds that the Council's recommendations for OFLs, ABCs, and TACs are consistent with the biological condition of groundfish stocks as adjusted for other biological and socioeconomic considerations, including maintaining the total TAC within the OY range. NMFS reviewed the Council's recommended TAC specifications and apportionments and approves these specifications under 50 CFR 679.20(c)(3)(ii). The apportionment of TAC amounts among gear types, processing sectors, and seasons is discussed below.

Tables 1 and 2 list the final 2010 and 2011 OFLs, ABCs, TACs, and area apportionments of groundfish in the GOA. The sums of the 2010 and 2011 ABCs are 565,499 mt and 605,086 mt, respectively, which are higher in 2010 and 2011 than the 2009 ABC sum of 516,055 mt (74 FR 7333, February 17, 2009).

Specification and Apportionment of TAC Amounts

As in prior years, the SSC and Council recommended that the method of apportioning the sablefish ABC among management areas in 2010 and 2011 include commercial fishery and survey data. NMFS stock assessment scientists believe the use of unbiased commercial fishery data reflecting catch-per-unit-effort provides rational input for stock distribution assessments. NMFS annually evaluates the use of commercial fishery data to ensure unbiased information is included in stock distribution models. The Council's recommendation for sablefish area apportionments also takes into account the prohibition on the use of trawl gear in the Southeast Outside (SEO) District of the Eastern Regulatory Area and makes available five percent of the combined Eastern Regulatory Area ABCs to trawl gear for use as incidental catch in other directed groundfish fisheries in the West Yakutat (WYK) District (§ 679.20(a)(4)(i)).

Since the inception of a State of Alaska (State) managed pollock fishery in Prince William Sound (PWS), the GOA Plan Team has recommended the guideline harvest level (GHL) for the pollock fishery in PWS be deducted from the ABC for the western stock of pollock in the GOA in the Western/Central/West Yakutat (W/C/WYK) Area. For the 2010 and 2011 pollock fisheries in PWS, the State's GHL is 1,650 mt.

The apportionment of annual pollock TAC among the Western and Central Regulatory Areas of the GOA reflects the seasonal biomass distribution and is discussed in greater detail below. The annual pollock TAC in the Western and Central Regulatory Areas of the GOA is apportioned among Statistical Areas 610, 620, and 630, as well as equally among each of the following four seasons: The A season (January 20 through March 10), the B season (March 10 through May 31), the C season (August 25 through October 1), and the D season (October 1 through November 1) (50 CFR 679.23(d)(2)(i) through (iv) and 679.20(a)(5)(iv)(A), (B)).

The SSC, AP, and Council recommended apportionment of the ABC for Pacific cod in the GOA among regulatory areas based on the three most recent NMFS summer trawl surveys. The 2010 and 2011 Pacific cod TACs are affected by the State's fishery for Pacific cod in State waters in the Central and Western Regulatory Areas, as well as in PWS. The Plan Team, SSC, AP, and Council recommended that the sum of all State and Federal water Pacific cod removals from the GOA not exceed ABC recommendations. Accordingly, the Council recommended reducing the 2010 and 2011 Pacific cod TACs from the ABCs in the Central and Western Regulatory Areas to account for State GHLs. Therefore, the 2010 Pacific cod TACs are less than the ABCs by the following amounts: (1) Eastern GOA, 356 mt; (2) Central GOA, 12,260 mt; and (3) Western GOA, 6,921 mt. The 2011 Pacific cod TACs are less than the ABCs by the following amounts: (1) Eastern GOA, 441 mt; (2) Central GOA, 15,174 mt; and (3) Western GOA, 8,566 mt. These amounts reflect the sum of the State's 2010 and 2011 GHLs in these areas, which are 15 percent, 25 percent, and 25 percent of the Eastern, Central, and Western GOA ABCs, respectively. The percentage of the ABC used to calculate the 2010 and 2011 GHL for the State-managed Pacific cod fishery in PWS fisheries has been increased from 10 percent in 2009 to 15 percent of the Eastern GOA ABC in 2010 and 2011.

NMFS establishes seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (§§ 679.23(d)(3) and 679.20(a)(12)).

NMFS establishes—for 2010 and 2011—an A season directed fishing allowance (DFA) for the Pacific cod fisheries in the GOA based on the management area TACs minus the recent average A season incidental catch of Pacific cod in each management area before June 10 (§ 679.20(d)(1)). The DFA and incidental catch before June 10 will be managed such that total harvest in the A season will be no more than 60 percent of the annual TAC. Incidental catch taken after June 10 will continue to accrue against the B season TAC. This action meets the intent of the Steller sea lion protection measures by achieving temporal dispersion of the Pacific cod removals and by reducing the likelihood of harvest exceeding 60 percent of the annual TAC in the A season.

Other Actions Affecting the 2010 and 2011 Harvest Specifications

The Council is developing an amendment to the FMP to comply with Magnuson-Stevens Act requirements associated with annual catch limits and accountability measures. That amendment may result in revisions to how total annual groundfish mortality is estimated and accounted for in the annual SAFE reports, which in turn may affect the OFLs and ABCs for certain groundfish species. NMFS will attempt to identify additional sources of mortality to groundfish stocks not currently reported or considered by the groundfish stock assessments in recommending OFL, ABC, and TAC for certain groundfish species. These changes would not be in effect until 2011, and could affect the 2011 OFLs, ABCs, and TACs contained in this action.

In October 2008, the Council adopted Amendment 34 to the Fishery Management Plan for Bering Sea/Aleutian Islands King and Tanner Crabs. Amendment 34 would amend the Bering Sea and Aleutian Islands Crab Rationalization Program (Crab Rationalization Program) to exempt additional fishery participants from harvest limits, called sideboards, which apply to some vessels and license limitation program (LLP) licenses that are used to participate in GOA Pacific cod and pollock fisheries. These particular sideboards are discussed under the subsequent section titled “Non-AFA Crab Vessel Groundfish Harvest Limitations.” Tables 19 and 20 specify the 2010 and 2011 sideboard amounts. If the Secretary approves Amendment 34, NMFS would revise the sideboard amounts specified in Tables 19 and 20.

Changes From the Proposed 2010 and 2011 Harvest Specifications in the GOA

In October 2009, the Council's recommendations for the proposed 2010 and 2011 harvest specifications (74 FR 62533, November 30, 2009) were based largely upon information contained in the final 2008 SAFE report for the GOA groundfish fisheries, dated November 2008 (see ADDRESSES). The Council proposed that the OFLs, ABCs, and TACs established for the groundfish fisheries in 2009 (74 FR 7333, February 17, 2009, see Table 2) be rolled over to 2010 and 2011, pending completion and review of the 2009 SAFE report at its December 2009 meeting.

The 2009 SAFE report, which was not available when the Council made its recommendations in October 2009, contains the best and most recent scientific information on the condition of the groundfish stocks. The Council considered this report in December 2009 when it made recommendations for the final 2010 and 2011 harvest specifications. The Council's final 2010 and 2011 TAC recommendations increase fishing opportunities for species for which the Council had sufficient information to raise TAC levels. Conversely, the Council reduced TAC levels to provide greater protection for some species. Based on the final 2009 SAFE report, the sum of the 2010 final TACs for the GOA (292,087 mt) is 7,399 mt higher than the sum of the proposed 2010 TACs (284,688 mt). The largest 2010 increases occurred for pollock, from 74,330 mt to 84,745 mt (14 percent increase); for rex sole, from 8,827 mt to 9,729 mt (10 percent increase); for Pacific ocean perch, from 15,098 mt to 17,584 mt (16 percent increase); for northern rockfish, from 4,173 mt to 5,098 mt (22 percent increase); and for pelagic shelf rockfish, from 4,465 mt to 5,059 mt (13 percent increase). The largest decreases occurred for deep-water flatfish, from 9,793 mt to 6,190 mt (37 percent decrease); for shallow-water flatfish, from 22,256 mt to 20,062 mt (10 percent decrease); for flathead sole, from 11,289 mt to 10,441 mt (8 percent decrease); for other rockfish, from 1,730 mt to 1,192 mt (31 percent decrease); for thornyhead rockfish, from 1,910 mt to 1,770 mt (7 percent decrease); and for demersal shelf rockfish, from 362 mt to 295 mt (18 percent decrease). The sum of the final 2011 TACs for the GOA (328,464 mt) is 43,776 mt higher than the sum of the proposed 2011 TACs (284,688 mt). The largest 2011 increases occurred for pollock, Pacific cod, rex sole, Pacific ocean perch, northern rockfish, and pelagic shelf rockfish. Concurrently, decreases occurred for sablefish, deep-water flatfish, shallow-water flatfish, flathead sole, other rockfish, demersal shelf rockfish, and thornyhead rockfish. Other increases or decreases in 2010 and 2011 are within 2 percent of the proposed specifications.

The changes in the final rule from the proposed rule are based on the most recent scientific information and implement the harvest strategy described in the proposed rule for the harvest specifications. Tables 1 and 2 list the 2010 and 2011, respectively, final OFL, ABC, and TAC amounts for GOA groundfish.

Table 1—Final 2010 ABCs, TACs, and OFLs of Groundfish for the Western/Central/West Yakutat (W/C/WYK), Western (W), Central (C), Eastern (E) Regulatory Areas, and in the West Yakutat (WYK), Southeast Outside (SEO) and Gulfwide (GW) Districts of the Gulf of Alaska (GOA)
[Values are rounded to the nearest metric ton]
Species | Area ¹ | ABC | TAC | OFL
Pollock ² | Shumagin (610) | 26,256 | 26,256 | n/a
| Chirikof (620) | 28,095 | 28,095 | n/a
| Kodiak (630) | 19,118 | 19,118 | n/a
| WYK (640) | 2,031 | 2,031 | n/a
| W/C/WYK (subtotal) | 75,500 | 75,500 | 103,210
| SEO (650) | 9,245 | 9,245 | 12,326
| Total | 84,745 | 84,745 | 115,536
Pacific cod ³ | W | 27,685 | 20,764 | n/a
| C | 49,042 | 36,782 | n/a
| E | 2,373 | 2,017 | n/a
| Total | 79,100 | 59,563 | 94,100
Sablefish ⁴ | W | 1,660 | 1,660 | n/a
| C | 4,510 | 4,510 | n/a
| WYK | 1,620 | 1,620 | n/a
| SEO | 2,580 | 2,580 | n/a
| E (WYK and SEO) (subtotal) | 4,200 | 4,200 | n/a
| Total | 10,370 | 10,370 | 12,270
Deep-water flatfish ⁵ | W | 521 | 521 | n/a
| C | 2,865 | 2,865 | n/a
| WYK | 2,044 | 2,044 | n/a
| SEO | 760 | 760 | n/a
| Total | 6,190 | 6,190 | 7,680
Shallow-water flatfish ⁶ | W | 23,681 | 4,500 | n/a
| C | 29,999 | 13,000 | n/a
| WYK | 1,228 | 1,228 | n/a
| SEO | 1,334 | 1,334 | n/a
| Total | 56,242 | 20,062 | 67,768
Rex sole | W | 1,543 | 1,543 | n/a
| C | 6,403 | 6,403 | n/a
| WYK | 883 | 883 | n/a
| SEO | 900 | 900 | n/a
| Total | 9,729 | 9,729 | 12,714
Arrowtooth flounder | W | 34,773 | 8,000 | n/a
| C | 146,407 | 30,000 | n/a
| WYK | 22,835 | 2,500 | n/a
| SEO | 11,867 | 2,500 | n/a
| Total | 215,882 | 43,000 | 254,271
Flathead sole | W | 16,857 | 2,000 | n/a
| C | 27,124 | 5,000 | n/a
| WYK | 1,990 | 1,990 | n/a
| SEO | 1,451 | 1,451 | n/a
| Total | 47,422 | 10,411 | 59,295
Pacific ocean perch ⁷ | W | 2,895 | 2,895 | 3,332
| C | 10,737 | 10,737 | 12,361
| WYK | 2,004 | 2,004 | n/a
| SEO | 1,948 | 1,948 | n/a
| E (WYK and SEO) (subtotal) | 3,952 | 3,952 | 4,550
| Total | 17,584 | 17,584 | 20,243
Northern rockfish ⁸ ⁹ | W | 2,703 | 2,703 | n/a
| C | 2,395 | 2,395 | n/a
| E | 0 | 0 | n/a
| Total | 5,098 | 5,098 | 6,070
Rougheye rockfish ¹⁰ | W | 80 | 80 | n/a
| C | 862 | 862 | n/a
| E | 360 | 360 | n/a
| Total | 1,302 | 1,302 | 1,568
Shortraker rockfish ¹¹ | W | 134 | 134 | n/a
| C | 325 | 325 | n/a
| E | 455 | 455 | n/a
| Total | 914 | 914 | 1,219
Other rockfish ⁹ ¹² | W | 212 | 212 | n/a
| C | 507 | 507 | n/a
| WYK | 273 | 273 | n/a
| SEO | 2,757 | 200 | n/a
| Total | 3,749 | 1,192 | 4,881
Pelagic shelf rockfish ¹³ | W | 650 | 650 | n/a
| C | 3,249 | 3,249 | n/a
| WYK | 434 | 434 | n/a
| SEO | 726 | 726 | n/a
| Total | 5,059 | 5,059 | 6,142
Demersal shelf rockfish ¹⁴ | SEO | 295 | 295 | 472
Thornyhead rockfish | W | 425 | 425 | n/a
| C | 637 | 637 | n/a
| E | 708 | 708 | n/a
| Total | 1,770 | 1,770 | 2,360
Atka mackerel | GW | 4,700 | 2,000 | 6,200
Big skate ¹⁵ | W | 598 | 598 | n/a
| C | 2,049 | 2,049 | n/a
| E | 681 | 681 | n/a
| Total | 3,328 | 3,328 | 4,438
Longnose skate ¹⁶ | W | 81 | 81 | n/a
| C | 2,009 | 2,009 | n/a
| E | 762 | 762 | n/a
| Total | 2,852 | 2,852 | 3,803
Other skates ¹⁷ | GW | 2,093 | 2,093 | 2,791
Other species ¹⁸ | GW | 7,075 | 4,500 | 9,432
Total |  | 565,499 | 292,087 | 693,253
¹ Regulatory areas and districts are defined at § 679.2.
² Pollock is apportioned in the Western/Central Regulatory Areas among three statistical areas. During the A season, the apportionment is based on an adjusted estimate of the relative distribution of pollock biomass of approximately 30 percent, 46 percent, and 24 percent in Statistical Areas 610, 620, and 630, respectively. During the B season, the apportionment is based on the relative distribution of pollock biomass at 30 percent, 54 percent, and 16 percent in Statistical Areas 610, 620, and 630, respectively. During the C and D seasons, the apportionment is based on the relative distribution of pollock biomass at 41 percent, 27 percent, and 32 percent in Statistical Areas 610, 620, and 630, respectively. Tables 5 and 6 list the proposed 2010 and 2011 pollock seasonal apportionments. In the West Yakutat and Southeast Outside Districts of the Eastern Regulatory Area, pollock is not divided into seasonal allowances.
³ The annual Pacific cod TAC is apportioned 60 percent to the A season and 40 percent to the B season in the Western and Central Regulatory Areas of the GOA. Pacific cod is allocated 90 percent for processing by the inshore component and 10 percent for processing by the offshore component. Table 7 and 8 list the proposed 2010 and 2011 Pacific cod seasonal apportionments.
⁴ Sablefish is allocated to trawl and hook-and-line gears for 2010 and to trawl gear in 2011. Tables 3 and 4 list the proposed 2010 and 2011 sablefish TACs.
⁵ “Deep-water flatfish” means Dover sole, Greenland turbot, and deepsea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 2 mt apportionment of ABC to the Eastern GOA has been included in the slope rockfish complex.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the WYK District means slope rockfish and demersal shelf rockfish. The category “other rockfish” in the SEO District means slope rockfish.
¹³ “Pelagic shelf rockfish” means Sebastes ciliatus (dark), S. variabilis (dusky), S. entomelas (widow), and S. flavidus (yellowtail).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.
¹⁸ “Other species” means sculpins, sharks, squid, and octopus.

Table 2—Final 2011 ABCs, TACs, and OFLs of Groundfish for the Western/Central/West Yakutat (W/C/WYK), Western (W), Central (C), Eastern (E) Regulatory Areas, and in the West Yakutat (WYK), Southeast Outside (SEO) and Gulfwide (GW) Districts of the Gulf of Alaska (GOA)
[Values are rounded to the nearest metric ton]
Species | Area ¹ | ABC | TAC | OFL
Pollock ² | Shumagin (610) | 34,728 | 34,728 | n/a
| Chirikof (620) | 37,159 | 37,159 | n/a
| Kodiak (630) | 25,287 | 25,287 | n/a
| WYK (640) | 2,686 | 2,686 | n/a
| W/C/WYK (subtotal) | 99,860 | 99,860 | 135,010
| SEO (650) | 9,245 | 9,245 | 12,326
| Total | 109,105 | 109,105 | 147,336
Pacific cod ³ | W | 34,265 | 25,699 | n/a
| C | 60,698 | 45,524 | n/a
| E | 2,937 | 2,496 | n/a
| Total | 97,900 | 73,719 | 116,700
Sablefish ⁴ | W | 1,488 | 1,488 | n/a
| C | 4,042 | 4,042 | n/a
| WYK | 1,450 | 1,450 | n/a
| SEO | 2,320 | 2,320 | n/a
| E (WYK and SEO) (subtotal) | 3,770 | 3,770 | n/a
| Total | 9,300 | 9,300 | 11,008
Deep-water flatfish ⁵ | W | 530 | 530 | n/a
| C | 2,928 | 2,928 | n/a
| WYK | 2,089 | 2,089 | n/a
| SEO | 778 | 778 | n/a
| Total | 6,325 | 6,325 | 7,847
Shallow-water flatfish ⁶ | W | 23,681 | 4,500 | n/a
| C | 29,999 | 13,000 | n/a
| WYK | 1,228 | 1,228 | n/a
| SEO | 1,334 | 1,334 | n/a
| Total | 56,242 | 20,062 | 67,768
Rex sole | W | 1,521 | 1,521 | n/a
| C | 6,312 | 6,312 | n/a
| WYK | 871 | 871 | n/a
| SEO | 888 | 888 | n/a
| Total | 9,592 | 9,592 | 12,534
Arrowtooth flounder | W | 34,263 | 8,000 | n/a
| C | 144,262 | 30,000 | n/a
| WYK | 22,501 | 2,500 | n/a
| SEO | 11,693 | 2,500 | n/a
| Total | 212,719 | 43,000 | 250,559
Flathead sole | W | 17,520 | 2,000 | n/a
| C | 28,190 | 5,000 | n/a
| WYK | 2,068 | 2,068 | n/a
| SEO | 1,508 | 1,508 | n/a
| Total | 49,286 | 10,576 | 61,601
Pacific ocean perch ⁷ | W | 2,797 | 2,797 | 3,220
| C | 10,377 | 10,377 | 11,944
| WYK | 1,937 | 1,937 | n/a
| SEO | 1,882 | 1,882 | n/a
| E (WYK and SEO) (subtotal) | 3,819 | 3,819 | 4,396
| Total | 16,993 | 16,993 | 19,560
Northern rockfish ⁸ ⁹ | W | 2,549 | 2,549 | n/a
| C | 2,259 | 2,259 | n/a
| E | 0 | 0 | n/a
| Total | 4,808 | 4,808 | 5,730
Rougheye rockfish ¹⁰ | W | 81 | 81 | n/a
| C | 869 | 869 | n/a
| E | 363 | 363 | n/a
| Total | 1,313 | 1,313 | 1,581
Shortraker rockfish ¹¹ | W | 134 | 134 | n/a
| C | 325 | 325 | n/a
| E | 455 | 455 | n/a
| Total | 914 | 914 | 1,219
Other rockfish 9 ¹² | W | 212 | 212 | n/a
| C | 507 | 507 | n/a
| WYK | 273 | 273 | n/a
| SEO | 2,757 | 200 | n/a
| Total | 3,749 | 1,192 | 4,881
Pelagic shelf rockfish ¹³ | W | 607 | 607 | n/a
| C | 3,035 | 3,035 | n/a
| WYK | 405 | 405 | n/a
| SEO | 680 | 680 | n/a
| Total | 4,727 | 4,727 | 5,739
Demersal shelf rockfish ¹⁴ | SEO | 295 | 295 | 472
Thornyhead rockfish | W | 425 | 425 | n/a
| C | 637 | 637 | n/a
| E | 708 | 708 | n/a
| Total | 1,770 | 1,770 | 2,360
Atka mackerel | GW | 4,700 | 2,000 | 6,200
Big skate ¹⁵ | W | 598 | 598 | n/a
| C | 2,049 | 2,049 | n/a
| E | 681 | 681 | n/a
| Total | 3,328 | 3,328 | 4,438
Longnose skate ¹⁶ | W | 81 | 81 | n/a
| C | 2,009 | 2,009 | n/a
| E | 762 | 762 | n/a
| Total | 2,852 | 2,852 | 3,803
Other skates ¹⁷ | GW | 2,093 | 2,093 | 2,791
Other species ¹⁸ | GW | 7,075 | 4,500 | 9,432
Total |  | 605,086 | 328,464 | 743,559
¹ Regulatory areas and districts are defined at § 679.2.
² Pollock is apportioned in the Western/Central Regulatory Areas among three statistical areas. During the A season, the apportionment is based on an adjusted estimate of the relative distribution of pollock biomass of approximately 30 percent, 46 percent, and 24 percent in Statistical Areas 610, 620, and 630, respectively. During the B season, the apportionment is based on the relative distribution of pollock biomass at 30 percent, 54 percent, and 16 percent in Statistical Areas 610, 620, and 630, respectively. During the C and D seasons, the apportionment is based on the relative distribution of pollock biomass at 41 percent, 27 percent, and 32 percent in Statistical Areas 610, 620, and 630, respectively. Tables 5 and 6 list the proposed 2010 and 2011 pollock seasonal apportionments. In the West Yakutat and Southeast Outside Districts of the Eastern Regulatory Area, pollock is not divided into seasonal allowances.
³ The annual Pacific cod TAC is apportioned 60 percent to the A season and 40 percent to the B season in the Western and Central Regulatory Areas of the GOA. Pacific cod is allocated 90 percent for processing by the inshore component and 10 percent for processing by the offshore component. Tables 7 and 8 list the proposed 2010 and 2011 Pacific cod seasonal apportionments.
⁴ Sablefish is allocated to trawl and hook-and-line gears for 2010 and to trawl gear in 2011. Tables 3 and 4 list the proposed 2010 and 2011 sablefish TACs.
⁵ “Deep-water flatfish” means Dover sole, Greenland turbot, and deepsea sole.
⁶ “Shallow-water flatfish” means flatfish not including “deep-water flatfish,” flathead sole, rex sole, or arrowtooth flounder.
⁷ “Pacific ocean perch” means Sebastes alutus.
⁸ “Northern rockfish” means Sebastes polyspinous. For management purposes the 2 mt apportionment of ABC to the Eastern GOA has been included in the slope rockfish complex.
⁹ “Slope rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), and S. reedi (yellowmouth). In the Eastern GOA only, slope rockfish also includes northern rockfish, S. polyspinous.
¹⁰ “Rougheye rockfish” means Sebastes aleutianus (rougheye) and Sebastes melanostictus (blackspotted).
¹¹ “Shortraker rockfish” means Sebastes borealis.
¹² “Other rockfish” in the Western and Central Regulatory Areas and in the WYK District means slope rockfish and demersal shelf rockfish. The category “other rockfish” in the SEO District means slope rockfish.
¹³ “Pelagic shelf rockfish” means Sebastes ciliatus (dark), S. variabilis (dusky), S. entomelas (widow), and S. flavidus (yellowtail).
¹⁴ “Demersal shelf rockfish” means Sebastes pinniger (canary), S. nebulosus (china), S. caurinus (copper), S. maliger (quillback), S. helvomaculatus (rosethorn), S. nigrocinctus (tiger), and S. ruberrimus (yelloweye).
¹⁵ “Big skate” means Raja binoculata.
¹⁶ “Longnose skate” means Raja rhina.
¹⁷ “Other skates” means Bathyraja spp.
¹⁸ “Other species” means sculpins, sharks, squid, and octopus.

Apportionment of Reserves

Section 679.20(b)(2) requires 20 percent of each TAC for pollock, Pacific cod, flatfish, and the “other species” category be set aside in reserves for possible apportionment at a later date during the fishing year. In 2009, NMFS reapportioned all the reserves in the final harvest specifications. For 2010 and 2011, NMFS proposed reapportionment of all the reserves in the proposed 2010 and 2011 harvest specifications published in the Federal Register on November 30, 2009 (74 FR 62533). NMFS received no public comments on the proposed reapportionments. For the final 2010 and 2011 harvest specifications, NMFS reapportioned, as proposed, all the reserves for pollock, Pacific cod, flatfish, and “other species.” Specifications of TAC shown in Tables 1 and 2 reflect reapportionment of reserve amounts for these species and species groups.

Allocations of the Sablefish TAC Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, 95 percent of the TAC is allocated to hook-and-line gear, and five percent is allocated to trawl gear. The trawl gear allocation in the Eastern Regulatory Area may only be used to support incidental catch of sablefish in directed fisheries for other target species (§ 679.20(a)(1)). In recognition of the trawl ban in the SEO District of the Eastern Regulatory Area, the Council recommended (and NMFS concurs with) the allocation of five percent of the combined Eastern Regulatory Area sablefish TAC to trawl gear in the WYK District and the remainder of the WYK sablefish TAC be available to vessels using hook-and-line gear. As a result, NMFS allocates 100 percent of the sablefish TAC in the SEO District to vessels using hook-and-line gear. This recommendation results in an allocation of 210 mt to trawl gear and 1,410 mt to hook-and-line gear in the WYK District in 2010, an allocation of 2,580 mt to hook-and-line gear in the SEO District in 2010, and 189 mt to trawl gear in the WYK District in 2011. Table 3 lists the allocations of the 2010 sablefish TACs to hook-and-line and trawl gear. Table 4 lists the allocations of the 2011 sablefish TACs to trawl gear.

The Council recommended that the hook-and-line sablefish TAC be established annually to ensure that the Individual Fishery Quota (IFQ) fishery is conducted concurrent with the halibut IFQ fishery and is based on the most recent survey information. The Council also recommended that only a trawl sablefish TAC be established for two years so that retention of incidental catch of sablefish by trawl gear could commence in January in the second year of the groundfish harvest specifications. However, since there is an annual assessment for sablefish and the final harvest specifications are expected to be published before the IFQ season begins (typically, early March), the industry and Council recommended that the sablefish TAC be set on an annual basis so that the best and most recent scientific information could be considered in recommending the ABCs and TACs. Since sablefish is on bycatch status for trawl gear during the entire fishing year, and given that fishing for groundfish is prohibited prior to January 20, it is not likely that the sablefish allocation to trawl gear would be reached before the effective date of the final harvest specifications.

Table 3—Final 2010 Sablefish TAC Specifications in the GOA and Allocations to Hook-and-Line and Trawl Gear
[Values are rounded to the nearest metric ton]
Area/district | TAC | Hook-and-line allocation | Trawl allocation
Western | 1,660 | 1,328 | 332
Central | 4,510 | 3,608 | 902
West Yakutat ¹ | 1,620 | 1,410 | 210
Southeast Outside | 2,580 | 2,580 | 0
Total | 10,370 | 8,926 | 1,444
¹ Represents an allocation of 5 percent of the combined Eastern Regulatory Area sablefish TAC to trawl gear in the WYK District.

Table 4—Final 2011 Sablefish TAC Specifications in the GOA and Allocation to Trawl Gear ¹
[Values are rounded to the nearest metric ton]
Area/district | TAC | Hook-and-line allocation | Trawl allocation
Western | 1,488 | n/a | 298
Central | 4,042 | n/a | 808
West Yakutat ² | 1,450 | n/a | 189
Southeast Outside | 2,320 | n/a | 0
Total | 9,300 | n/a | 1,295
¹ The Council recommended that harvest specifications for the hook-and-line gear sablefish Individual Fishing Quota fisheries be limited to one year.
² Represents an allocation of 5 percent of the combined Eastern Regulatory Area sablefish TAC to trawl gear in the WYK District.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630, pursuant to § 679.20(a)(5)(iv)(A). In the A and B seasons, the apportionments are in proportion to the distribution of pollock biomass based on the four most recent NMFS winter surveys. In the C and D seasons, the apportionments are in proportion to the distribution of pollock biomass based on the four most recent NMFS summer surveys. For 2010 and 2011, the Council recommends, and NMFS approves, averaging the winter and summer distribution of pollock in the Central Regulatory Area for the A season. The average is intended to reflect the distribution of pollock and the performance of the fishery in the area during the A season for the 2010 and 2011 fishing years. Within any fishing year, the amount by which a seasonal allowance is under- or overharvested may be added to, or subtracted from, subsequent seasonal allowances in a manner to be determined by the Regional Administrator (§ 679.20(a)(5)(iv)(B)). The rollover amount of unharvested pollock is limited to 20 percent of the seasonal apportionment for the statistical area. Any unharvested pollock above the 20-percent limit could be further distributed to the other statistical areas, in proportion to the estimated biomass in the subsequent season in those statistical areas (§ 679.20(a)(5)(iv)(B)). The pollock TACs in the WYK and SEO District of 2,031 mt and 9,245 mt, respectively, in 2010, and 2,686 mt and 9,245 mt, respectively, in 2011, are not allocated by season.

Section 679.20(a)(6)(i) requires the allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year.

Tables 5 and 6 list the seasonal biomass distribution of pollock in the Western and Central Regulatory Areas, area apportionments, and seasonal allowances. The amounts of pollock for processing by the inshore and offshore components are not shown.

Table 5—Final 2010 Distribution of Pollock in the Central and Western Regulatory Areas of the GOA; Seasonal Biomass Distribution, Area Apportionments; and Seasonal Allowances of Annual TAC
[Values are rounded to the nearest metric ton]
Season ¹ | Shumagin (Area 610) |  | Chirikof (Area 620) |  | Kodiak (Area 630) |  | Total ²
A (Jan 20-Mar 10) | 5,551 | (30.22%) | 8,414 | (45.81%) | 4,403 | (23.97%) | 18,368
B (Mar 10-May 31) | 5,551 | (30.22%) | 9,925 | (54.04%) | 2,891 | (15.74%) | 18,367
C (Aug 25-Oct 1) | 7,577 | (41.25%) | 4,878 | (26.55%) | 5,912 | (32.19%) | 18,367
D (Oct 1-Nov 1) | 7,577 | (41.25%) | 4,878 | (26.55%) | 5,912 | (32.19%) | 18,367
Annual Total | 26,256 |  | 28,095 |  | 19,118 |  | 73,469
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Table 6—Final 2011 Distribution of Pollock in the Central and Western Regulatory Areas of the GOA; Seasonal Biomass Distribution, Area Apportionments; and Seasonal Allowances of Annual TAC
[Values are rounded to the nearest metric ton]
Season ¹ | Shumagin (Area 610) |  | Chirikof (Area 620) |  | Kodiak (Area 630) |  | Total ²
A (Jan 20-Mar 10) | 7,342 | (30.22%) | 11,129 | (45.81%) | 5,823 | (23.97%) | 24,294
B (Mar 10-May 31) | 7,342 | (30.22%) | 13,128 | (54.04%) | 3,824 | (15.74%) | 24,294
C (Aug 25-Oct 1) | 10,022 | (41.25%) | 6,451 | (26.55%) | 7,820 | (32.19%) | 24,293
D (Oct 1-Nov 1) | 10,022 | (41.25%) | 6,451 | (26.55%) | 7,820 | (32.19%) | 24,293
Annual Total | 34,728 |  | 37,159 |  | 25,287 |  | 97,174
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Seasonal Apportionments of Pacific Cod TAC and Allocations for Processing of Pacific Cod TAC Between Inshore and Offshore Components

Pacific cod fishing is divided into two seasons in the Western and Central Regulatory Areas of the GOA. For hook-and-line, pot, and jig gear, the A season is January 1 through June 10, and the B season is September 1 through December 31. For trawl gear, the A season is January 20 through June 10, and the B season is September 1 through November 1 (§ 679.23(d)(3)(i)). After subtraction of incidental catch from the A season, 60 percent of the annual TAC will be available as a DFA during the A season for the inshore and offshore components. The remaining 40 percent of the annual TAC will be available for harvest during the B season. Under § 679.20(a)(12)(ii), any overage or underage of the Pacific cod allowance from the A season may be subtracted from or added to the subsequent B season allowance.

Section 679.20(a)(6)(ii) requires allocation of the TAC apportionments of Pacific cod in all regulatory areas to vessels catching Pacific cod for processing by the inshore and offshore components. Ninety percent of the Pacific cod TAC in each regulatory area is allocated to vessels catching Pacific cod for processing by the inshore component. The remaining 10 percent of the TAC is allocated to vessels catching Pacific cod for processing by the offshore component. Tables 7 and 8 list the seasonal apportionments and allocations of the final 2010 and 2011 Pacific cod TACs, respectively.

Table 7—Final 2010 Seasonal Apportionments and Allocation of Pacific Cod TAC Amounts in the GOA; Allocations for Processing by the Inshore and Offshore Components
[Values are rounded to the nearest metric ton]
Regulatory area | Season | TAC | Component allocation: Inshore (90%) | Component allocation: Offshore (10%)
Western | Annual | 20,764 | 18,687 | 2,077
| A season (60%) | 12,458 | 11,212 | 1,246
| B season (40%) | 8,306 | 7,475 | 831
Central | Annual | 36,782 | 33,104 | 3,678
| A season (60%) | 22,069 | 19,862 | 2,207
| B season (40%) | 14,713 | 13,242 | 1,471
Eastern | Annual | 2,017 | 1,816 | 201
Total |  | 59,563 | 53,607 | 5,956

Table 8—Final 2011 Seasonal Apportionments and Allocation of Pacific Cod TAC Amounts in the GOA; Allocations for Processing by the Inshore and Offshore Components
[Values are rounded to the nearest metric ton]
Regulatory area | Season | TAC | Component allocation: Inshore (90%) | Component allocation: Offshore (10%)
Western | Annual | 25,699 | 23,129 | 2,570
| A season (60%) | 15,419 | 13,877 | 1,542
| B season (40%) | 10,280 | 9,252 | 1,028
Central | Annual | 45,524 | 40,972 | 4,552
| A season (60%) | 27,314 | 24,583 | 2,731
| B season (40%) | 18,210 | 16,389 | 1,821
Eastern | Annual | 2,496 | 2,246 | 250
Total |  | 73,719 | 66,347 | 7,372

Demersal Shelf Rockfish (DSR)

The recommended 2010 and 2011 DSR TAC is 295 mt. In 2006, the Alaska Board of Fish (BOF) allocated the SEO District DSR TAC between the commercial fishery (84 percent) and the sportfish fishery (16 percent). This results in 2010 and 2011 allocations of 248 mt to the commercial fishery and 47 mt to the sportfish fishery. Alaska Department of Fish and Game (ADF&G) deducts estimates of incidental catch of DSR in the commercial halibut fishery from the DSR commercial fishery allocation. In 2009, this resulted in 115 mt being available for the directed commercial DSR fishery apportioned between four outer coast areas. Only two of these areas had GHLs large enough to support directed fisheries, totaling 78 mt. Of this amount, 76 mt were harvested in directed fisheries. DSR harvest in the halibut fishery is linked to the halibut quota; therefore the ADF&G cannot estimate potential DSR incidental catch in that fishery until those quotas are established. Federally permitted catcher vessels using hook-and-line or jig gear fishing for groundfish and Pacific halibut in the SEO District of the GOA are required Full retention of all DSR (§ 679.20(j)). The ADF&G announced the opening of directed fishing for DSR in January following the International Pacific Halibut Commission's (IPHC) annual January meeting.

Apportionments to the Central GOA Rockfish Pilot Program

Section 679.81(a)(1) and (2) require the allocation of the primary rockfish species TACs in the Central Regulatory Area, after deducting incidental catch needs in other directed groundfish fisheries, to participants in the Rockfish Program. Five percent (2.5 percent to trawl gear and 2.5 percent to fixed gear) of the final TACs for Pacific ocean perch, northern rockfish, and pelagic shelf rockfish in the Central Regulatory Area are allocated to the entry-level rockfish fishery; the remaining 95 percent are allocated to those vessels eligible to participate in the Rockfish Program. NMFS is setting aside—in 2010 and 2011—incidental catch amounts (ICAs) of 500 mt of Pacific ocean perch, 100 mt of northern rockfish, and 100 mt of pelagic shelf rockfish for other directed fisheries in the Central Regulatory Area. These amounts are based on recent average incidental catch in the Central Regulatory Area by these other groundfish fisheries.

Section 679.83(a)(1)(i) requires that allocations to the trawl entry-level fishery must be made first from the allocation of Pacific ocean perch available to the rockfish entry-level fishery. If the amount of Pacific ocean perch available for allocation is less than the total allocation allowable for trawl catcher vessels in the rockfish entry-level fishery, then northern rockfish and pelagic shelf rockfish must be allocated to trawl catcher vessels. Allocations of Pacific ocean perch, northern rockfish, and pelagic shelf rockfish to longline gear vessels must be made after the allocations to trawl gear.

Tables 9 and 10 list the final 2010 and 2011 allocations of rockfish in the Central GOA to trawl and longline gear in the entry-level rockfish fishery, respectively. Allocations of primary rockfish species TACs among participants in the Rockfish Program are not included in the final harvest specifications because applications for catcher/processor and catcher vessel cooperatives are due to NMFS on March 1 of each calendar year, thereby preventing NMFS from calculating final 2010 allocations. NMFS will post these allocations on the Alaska Region Web site (http://alaskafisheries.noaa.gov/sustainablefisheries/goarat/default.htm) when they become available in March 2010.

Table 9—Final 2010 Allocations of Rockfish in the Central Gulf of Alaska to Trawl and Longline Gear ¹ in the Entry-Level Rockfish Fishery
[Values are rounded to the nearest metric ton]
Species | TAC | Incidental catch allowance | TAC minus ICA | 5% TAC | 2.5% TAC | Entry-level trawl allocation | Entry-level longline allocation
Pacific ocean perch | 10,737 | 500 | 10,237 | 512 | 256 | 392 | 120
Northern rockfish | 2,395 | 100 | 2,295 | 115 | 57 | 0 | 115
Pelagic shelf rockfish | 3,249 | 100 | 3,149 | 157 | 79 | 0 | 157
Total | 16,381 | 700 | 15,681 | 784 | 392 | 392 | 392
¹ Longline gear includes jig and hook-and-line gear.

Table 10—Final 2011 Allocations of Rockfish in the Central GOA to Trawl and Longline Gear ¹ in the Entry-Level Rockfish Fishery
[Values are rounded to the nearest metric ton]
Species | TAC | Incidental catch allowance | TAC minus ICA | 5% TAC | 2.5% TAC | Entry-level trawl allocation | Entry-level longline allocation
Pacific ocean perch | 10,377 | 500 | 9,877 | 494 | 247 | 375 | 119
Northern rockfish | 2,259 | 100 | 2,159 | 108 | 54 | 0 | 108
Pelagic shelf rockfish | 3,035 | 100 | 2,935 | 147 | 74 | 0 | 147
Total | 15,671 | 700 | 14,971 | 749 | 375 | 375 | 374
¹ Longline gear includes jig and hook-and-line gear.

Halibut PSC Limits

Section 679.21(d) establishes the annual halibut PSC limit apportionments to trawl and hook-and-line gear and permits the establishment of apportionments for pot gear. In December 2009, the Council recommended that NMFS maintain the 2009 halibut PSC limits of 2,000 mt for the trawl fisheries and 300 mt for the hook-and-line fisheries. Ten mt of the hook-and-line limit is further allocated to the DSR fishery in the SEO District. The DSR fishery is defined at § 679.21(d)(4)(iii)(A). This fishery has been apportioned 10 mt in recognition of its small-scale harvests. Most vessels in the DSR fishery are less than 60 ft (18.3 m) length overall (LOA) and are exempt from observer coverage. Therefore, observer data are not available to verify actual bycatch amounts. NMFS assumes the halibut bycatch in the DSR fishery is low because of the short soak times for the gear and duration of the DSR fishery. Also, the DSR fishery occurs in the winter when less overlap occurs in the distribution of DSR and halibut. Finally, much of the DSR TAC is not available to the directed DSR commercial fishery. ADF&G sets the GHLs after estimates of incidental catch in all fisheries (including halibut and subsistence) and allocation to the sportfish fishery have been deducted. Of the 362 mt TAC for DSR in 2009, 115 mt was available for the commercial fishery, of which 76 mt were harvested.

The FMP authorizes the Council to exempt specific gear from the halibut PSC limits. NMFS, after consultation with the Council, exempts pot gear, jig gear, and the sablefish IFQ hook-and-line gear fishery from the non-trawl halibut limit for 2010 and 2011. The Council recommended these exemptions because (1) the pot gear fisheries have low annual halibut bycatch mortality (averaging 18 mt annually from 2001 through 2009); (2) IFQ program regulations prohibit discard of halibut if any halibut IFQ permit holder on board a catcher vessel holds unused halibut IFQ (§ 679.7(f)(11)). Sablefish IFQ fishermen typically also hold halibut IFQ permits, so are required to retain the halibut they catch while fishing sablefish IFQ; and (3) halibut mortality for the jig gear fisheries is assumed to be negligible. Halibut mortality is assumed to be negligible in the jig gear fisheries given the small amount of groundfish harvested by jig gear (averaging 258 mt annually from 2001 through 2009), the selective nature of jig gear, and the high survival rates of halibut caught and released with jig gear.

Section 679.21(d)(5) authorizes NMFS to seasonally apportion the halibut PSC limits after consultation with the Council. The FMP and regulations require the Council and NMFS to consider the following information in seasonally apportioning halibut PSC limits: (1) Seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry. The information to establish the halibut PSC limits was obtained from the 2009 SAFE report, NMFS, ADF&G, the IPHC, and public testimony.

NMFS concurs in the Council's recommendations listed in Table 11, which shows the final 2010 and 2011 Pacific halibut PSC limits, allowances, and apportionments. Sections 679.21(d)(5)(iii) and (iv) specify that any underages or overages of a seasonal apportionment of a PSC limit will be deducted from or added to the next respective seasonal apportionment within the fishing year.

Table 11—Final 2010 and 2011 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 550 | January 1-June 10 | 86 | 250 | January 1-December 31 | 10
April 1-July 1 | 20 | 400 | June 10-September 1 | 2 | 5
July 1-September 1 | 30 | 600 | September 1-December 31 | 12 | 35
September 1-October 1 | 7.5 | 150
October 1-December 31 | 15 | 300
Total |  | 2,000 |  |  | 290 |  | 10
¹ The Pacific halibut PSC limit for hook-and-line gear is allocated to the DSR fishery and fisheries other than DSR. The hook-and-line sablefish fishery is exempt from halibut PSC limits.

Section 679.21(d)(3)(ii) authorizes further apportionment of the trawl halibut PSC limit to trawl fishery categories. The annual apportionments are based on each category's proportional share of the anticipated halibut bycatch mortality during the fishing year and optimization of the total amount of groundfish harvest under the halibut PSC limit. The fishery categories for the trawl halibut PSC limits are (1) a deep-water species category, comprised of sablefish, rockfish, deep-water flatfish, rex sole, and arrowtooth flounder; and (2) a shallow-water species category, comprised of pollock, Pacific cod, shallow-water flatfish, flathead sole, Atka mackerel, skates, and “other species” (§ 679.21(d)(3)(iii)). Table 12 lists the final 2010 and 2011 apportionments of Pacific halibut PSC trawl limits between the trawl gear deep-water and the shallow-water species categories.

Table 12—Final 2010 and 2011 Apportionment of Pacific Halibut PSC Trawl Limits Between the Trawl Gear Deep-Water Species Complex and the Shallow-Water Species Complex
[Values are in metric tons]
Season | Shallow-water | Deep-water ¹ | Total
January 20-April 1 | 450 | 100 | 550
April 1-July 1 | 100 | 300 | 400
July 1-September 1 | 200 | 400 | 600
September 1-October 1 | 150 | Any remainder | 150
Subtotal January 20-October 1 | 900 | 800 | 1,700
October 1-December 31 ² |  |  | 300
Total |  |  | 2,000
¹ Vessels participating in cooperatives in the Central GOA Rockfish Program will receive a portion of the third season (July 1-September 1) deep-water category halibut PSC apportionment. This amount is not currently known but will be posted later on the Alaska Region Web site (http://alaskafisheries.noaa.gov) when it becomes available.
² There is no apportionment between shallow-water and deep-water trawl fishery categories during the fifth season (October 1-December 31).

Estimated Halibut Bycatch in Prior Years

The best available information on estimated halibut bycatch is data collected by observers during 2009. The calculated halibut bycatch mortality by trawl, hook-and-line, and pot gears through December 31, 2009, is 1,817 mt, 277 mt, and 7 mt, respectively, for a total halibut mortality of 2,101 mt. This mortality was calculated using groundfish and halibut catch data from the NMFS, Alaska Region's catch accounting system. This system contains historical and recent catch information compiled from each Alaska groundfish fishery.

Halibut bycatch restrictions seasonally constrained trawl gear fisheries during the 2009 fishing year. Table 13 displays the closure dates for fisheries that resulted from the attainment of seasonal or annual halibut PSC limits. NMFS does not know amount of groundfish that trawl gear might have harvested if halibut PSC limits had not restricted some 2009 GOA groundfish fisheries.

Table 13—Fishery Closures Due to Attainment of Pacific Halibut PSC Limits
Fishery category | Opening date | Closure date | Federal Register Citation
Trawl Deep-water, season 1 | January 20, 2009 | March 3, 2009 | 74 FR 9964, March 9, 2009.
Trawl Deep-water, season 2 | April 1, 2009 | April 23, 2009 | 74 FR 19459, April 29, 2009.
Trawl Shallow-water, season 4 | Sept 1, 2009 | Sept. 2, 2009 | 74 FR 45378, Sept. 2, 2009.

Expected Changes in Groundfish Stocks and Catch

The final 2010 and 2011 ABCs for pollock, Pacific cod, rex sole, flathead sole, Pacific ocean perch, northern rockfish, rougheye rockfish, shortraker rockfish, and “other species” are higher than those established for 2009, while the final 2010 and 2011 ABCs for sablefish, deep-water flatfish, shallow-water flatfish, arrowtooth flounder, other rockfish, demersal shelf rockfish, thornyhead rockfish, big skate, longnose skate, and “other skates” are lower than those established for 2009. The final ABCs for pelagic shelf rockfish are, respectively, higher in 2010 and lower in 2011 than the 2009 ABCs. For the remaining target species, the Council recommended and the Secretary approved ABC levels in 2010 and 2011 that remain unchanged from 2009. More information on these changes is included in the final 2009 SAFE report. This document is available from the Council (see ADDRESSES).

In the GOA, the total final 2010 TAC amount is 292,087 mt, an increase of three percent from the total proposed 2010 TAC limit of 284,688 mt. The total final 2011 TAC amount is 328,464 mt, an increase of 15 percent from the total proposed 2011 TAC limit of 284,688 mt. Table 14 compares the proposed 2010 TACs to the final 2010 and 2011 TACs.

Table 14—Comparison of Proposed and Final 2010 and 2011 GOA TACs
[Values are rounded to the nearest metric ton]
Species | 2010 final TAC | 2010 proposed TAC | 2010 difference from proposed | 2011 final TAC | 2011 proposed TAC | 2011 difference from proposed
Pollock | 84,745 | 74,330 | 10,415 | 109,105 | 74,330 | 34,775
Pacific cod | 59,563 | 60,102 | −539 | 73,719 | 60,102 | 13,617
Sablefish | 10,370 | 10,337 | 33 | 9,300 | 10,337 | −1,037
Deep-water flatfish | 6,190 | 9,793 | −3,603 | 6,325 | 9,793 | −3,468
Shallow-water flatfish | 20,062 | 22,256 | −2,194 | 20,062 | 22,256 | −2,194
Rex sole | 9,729 | 8,827 | 902 | 9,592 | 8,827 | 765
Arrowtooth flounder | 43,000 | 43,000 | 0 | 43,000 | 43,000 | 0
Flathead sole | 10,441 | 11,289 | −848 | 10,576 | 11,289 | −713
Pacific ocean perch | 17,584 | 15,098 | 2,486 | 16,993 | 15,098 | 1,895
Northern rockfish | 5,098 | 4,173 | 925 | 4,808 | 4,173 | 635
Rougheye rockfish | 1,302 | 1,297 | 5 | 1,313 | 1,297 | 16
Shortraker rockfish | 914 | 898 | 16 | 914 | 898 | 16
Other rockfish | 1,192 | 1,730 | −538 | 1,192 | 1,730 | −538
Pelagic shelf rockfish | 5,059 | 4,465 | 594 | 4,727 | 4,465 | 262
Demersal shelf rockfish | 295 | 362 | −67 | 295 | 362 | −67
Thornyhead rockfish | 1,770 | 1,910 | −140 | 1,770 | 1,910 | −140
Atka mackerel | 2,000 | 2,000 | 0 | 2,000 | 2,000 | 0
Big skate | 3,328 | 3,330 | −2 | 3,328 | 3,330 | −2
Longnose skates | 2,852 | 2,887 | −35 | 2,852 | 2,887 | −35
Other skates | 2,093 | 2,104 | −11 | 2,093 | 2,104 | −11
Other species | 4,500 | 4,500 | 0 | 4,500 | 4,500 | 0
Total | 292,087 | 284,688 | 7,399 | 328,464 | 284,688 | 43,776

Current Estimates of Halibut Biomass and Stock Condition

The most recent halibut stock assessment was developed by the IPHC staff in December 2009 for the 2010 commercial fishery; this assessment was considered by the IPHC at its annual January 2010 meeting. Since 2006, the IPHC stock assessment has been fitted to a coastwide data set (including the United States and Canada) to estimate total exploitable biomass. Coastwide exploitable biomass at the beginning of 2010 is estimated to be 334 million pounds. The assessment revised last year's estimate of 325 million pounds at the start of 2009 downwards to 291 million pounds and projects an increase of 14 percent over that value to arrive at the 2010 value of 334 million pounds. At least part, if not most, of the downward revision for 2009 is believed to be caused by the ongoing decline in size at age, which continues for all ages in all areas. Projections based on the currently estimated age compositions suggest that the exploitable and female spawning biomasses will continue to increase over the next several years as a sequence of strong year classes recruit to the legal-sized component of the population. The coastwide exploitable biomass was apportioned among regulatory areas in accordance with survey estimates of relative abundance and other considerations. The assessment recommends a coastwide harvest rate of 20 percent of the exploitable biomass overall, but a lower harvest rate of 15 percent for Areas 4A, 4B, 4C, 4D, 4E, and 3B.

The halibut resource is fully utilized. Recent catches, over the last 16 years (1994-2009) in the commercial halibut fisheries in Alaska have averaged 32,850 mt round weight. In December 2009, IPHC staff recommended Alaska commercial catch limits totaling 25,008 mt round weight for 2010, a 5 percent decrease from 26,338 mt in 2009. Through December 31, 2009, commercial hook-and-line harvests of halibut off Alaska totaled 25,536 mt round weight.

Additional information on the Pacific halibut stock assessment may be found in the IPHC's 2009 Pacific halibut stock assessment (December 2009), available on the IPHC Web site at http://www.iphc.washington.edu. The IPHC considered the 2009 Pacific halibut assessment for 2010 at its January 2010 annual meeting when it set the 2010 commercial halibut fishery catch limits.

Other Factors

The proposed 2010 and 2011 harvest specifications (74 FR 62533, November 30, 2009) discuss potential impacts of expected fishing for groundfish on halibut stocks, as well as methods available for, and costs of, reducing halibut bycatch in the groundfish fisheries.

Halibut Discard Mortality Rates

The Council recommended and NMFS concurs that the halibut discard mortality rates (DMRs) developed and recommended by the IPHC for the 2010 through 2012 GOA groundfish fisheries be used to monitor the 2010 and 2011 GOA halibut bycatch mortality allowances. The IPHC will analyze observer data annually and recommend changes to the DMRs when a DMR shows large variation from the mean. Most of the IPHC's assumed DMRs were based on an average of mortality rates determined from NMFS observer data collected between 1999 and 2008. Long-term average DMRs were not available for some fisheries (for example, the deepwater flatfish fishery has not been prosecuted in recent years), so the IPHC used the average rates from the available years between 1999 and 2008. For other fisheries targets (which include Atka mackerel, “other species,” and skates for all gear types; and for the hook-and-line sablefish targets), where no data mortality was available, the IPHC recommended the mortality rate of halibut caught in the Pacific cod fishery for that gear type as a default rate. Table 15 compares the final GOA halibut DMRs for 2010 and 2011 with the DMRs published in the proposed 2010 and 2011 harvest specifications (74 FR 62533, November 30, 2009). A discussion of the DMRs and their justification is presented in Appendix 2 to the 2009 SAFE report (see ADDRESSES).

Table 15—Comparison of Proposed and Final 2010 and 2011 Halibut DMRs for Vessels Fishing in the GOA
[Values are percent of halibut bycatch assumed to be dead]
Gear | Target fishery | Proposed 2010 and 2011 mortality rate (%) | Final 2010 and 2011 mortality rate (%)
Hook-and-line | Other fisheries ¹ | 14 | 12
| Pacific cod | 14 | 12
| Rockfish | 10 | 9
Trawl | Arrowtooth flounder | 69 | 72
| Deep-water flatfish | 53 | 48
| Flathead sole | 61 | 65
| Non-pelagic pollock | 59 | 59
| Other fisheries ¹ | 63 | 62
| Pacific cod | 63 | 62
| Pelagic pollock | 76 | 76
| Rex sole | 63 | 64
| Rockfish | 67 | 67
| Sablefish | 65 | 65
| Shallow-water flatfish | 71 | 71
Pot | Other fisheries ¹ | 16 | 17
| Pacific cod | 16 | 17
¹ Other fisheries include all gear types for Atka mackerel, “other species,” and skates; and hook-and-line sablefish.

American Fisheries Act (AFA) Catcher/Processor and Catcher Vessel (CV) Groundfish Harvest and PSC Limits

Section 679.64 establishes groundfish harvesting and processing sideboard limitations on AFA catcher/processors and CVs in the GOA. These sideboard limits are necessary to protect the interests of fishermen and processors, who have not directly benefitted from the AFA, from fishermen and processors who have received exclusive harvesting and processing privileges under the AFA. Section 679.7(k)(1)(ii) prohibits listed AFA catcher/processors from harvesting any species of fish in the GOA. Additionally, § 679.7(k)(1)(iv) prohibits listed AFA catcher/processors from processing any pollock harvested in a directed pollock fishery in the GOA and any groundfish harvested in Statistical Area 630 of the GOA.

AFA CVs that are less than 125 ft (38.1 m) LOA, have annual landings of pollock in the Bering Sea and Aleutian Islands less than 5,100 mt, and have made at least 40 groundfish landings from 1995 through 1997 are exempt from GOA sideboard limits under § 679.64(b)(2)(ii). Sideboard limits for non-exempt AFA CVs in the GOA are based on their traditional harvest levels of TAC in groundfish fisheries covered by the FMP. Section 679.64(b)(3)(iii) establishes the groundfish sideboard limitations in the GOA based on the retained catch of non-exempt AFA CVs of each sideboard species from 1995 through 1997 divided by the TAC for that species over the same period. Tables 16 and 17 list the final 2010 and 2011 non-exempt AFA CV groundfish sideboard limits. NMFS will deduct all targeted or incidental catch of sideboard species made by non-exempt AFA CVs from the sideboard limits specified in Tables 16 and 17.

Table 16—Final 2010 GOA Non-Exempt AFA CV Groundfish Harvest Sideboard Limitations
[Values are rounded to nearest metric ton]
Species | Apportionments by season/gear | Area/component | Ratio of 1995-1997 non-exempt AFA CV catch to 1995-1997 TAC | 2010 TAC | 2010 non-exempt AFA CV sideboard limit
Pollock | A Season—January 20-March 10 | Shumagin (610) | 0.6047 | 5,551 | 3,357
|  | Chirikof (620) | 0.1167 | 8,414 | 982
|  | Kodiak (630) | 0.2028 | 4,403 | 893
| B Season—March 10-May 31 | Shumagin (610) | 0.6047 | 5,551 | 3,357
|  | Chirikof (620) | 0.1167 | 9,925 | 1,158
|  | Kodiak (630) | 0.2028 | 2,891 | 586
| C Season—August 25-October 1 | Shumagin (610) | 0.6047 | 7,577 | 4,582
|  | Chirikof (620) | 0.1167 | 4,878 | 569
|  | Kodiak (630) | 0.2028 | 5,912 | 1,199
| D Season—October 1-November 1 | Shumagin (610) | 0.6047 | 7,577 | 4,582
|  | Chirikof (620) | 0.1167 | 4,878 | 569
|  | Kodiak (630) | 0.2028 | 5,912 | 1,199
| Annual | WYK (640) | 0.3495 | 2,031 | 710
|  | SEO (650) | 0.3495 | 9,245 | 3,231
Pacific cod | A Season ¹—January 1-June 10 | W inshore | 0.1365 | 11,212 | 1,530
|  | W offshore | 0.1026 | 1,246 | 128
|  | C inshore | 0.0689 | 19,862 | 1,368
|  | C offshore | 0.0721 | 2,207 | 159
| B Season ²—September 1-December 31 | W inshore | 0.1365 | 7,475 | 1,020
|  | W offshore | 0.1026 | 831 | 85
|  | C inshore | 0.0689 | 13,242 | 912
|  | C offshore | 0.0721 | 1,471 | 106
| Annual | E inshore | 0.0079 | 1,815 | 14
|  | E offshore | 0.0078 | 202 | 2
Sablefish | Annual, trawl gear | W | 0.0000 | 332 | 0
|  | C | 0.0642 | 902 | 58
|  | E | 0.0433 | 210 | 9
Flatfish, deep-water | Annual | W | 0.0000 | 521 | 0
|  | C | 0.0647 | 2,865 | 185
|  | E | 0.0128 | 2,804 | 36
Flatfish, shallow-water | Annual | W | 0.0156 | 4,500 | 70
|  | C | 0.0587 | 13,000 | 763
|  | E | 0.0126 | 2,562 | 32
Rex sole | Annual | W | 0.0007 | 1,543 | 1
|  | C | 0.0384 | 6,403 | 246
|  | E | 0.0029 | 1,783 | 5
Arrowtooth Flounder | Annual | W | 0.0021 | 8,000 | 17
|  | C | 0.0280 | 30,000 | 840
|  | E | 0.0002 | 5,000 | 1
Flathead sole | Annual | W | 0.0036 | 2,000 | 7
|  | C | 0.0213 | 5,000 | 107
|  | E | 0.0009 | 3,441 | 3
Pacific ocean Perch | Annual | W | 0.0023 | 2,895 | 7
|  | C | 0.0748 | 10,737 | 803
|  | E | 0.0466 | 3,952 | 184
Northern Rockfish | Annual | W | 0.0003 | 2,703 | 1
|  | C | 0.0277 | 2,395 | 66
Rougheye Rockfish | Annual | W | 0.0000 | 80 | 0
|  | C | 0.0237 | 862 | 20
|  | E | 0.0124 | 360 | 4
Shortraker Rockfish | Annual | W | 0.0000 | 134 | 0
|  | C | 0.0218 | 325 | 7
|  | E | 0.0110 | 455 | 5
Other Rockfish | Annual | W | 0.0034 | 212 | 1
|  | C | 0.1699 | 507 | 86
|  | E | 0.0000 | 473 | 0
Pelagic shelf Rockfish | Annual | W | 0.0001 | 650 | 0
|  | C | 0.0000 | 3,249 | 0
|  | E | 0.0067 | 1,160 | 8
Demersal shelf rockfish | Annual | SEO | 0.0020 | 295 | 1
Thornyhead Rockfish | Annual | W | 0.0280 | 425 | 12
|  | C | 0.0280 | 637 | 18
|  | E | 0.0280 | 708 | 20
Atka mackerel | Annual | Gulfwide | 0.0309 | 2,000 | 62
Big skates | Annual | W | 0.0063 | 598 | 4
|  | C | 0.0063 | 2,049 | 13
|  | E | 0.0063 | 681 | 4
Longnose Skates | Annual | W | 0.0063 | 81 | 0
|  | C | 0.0063 | 2,009 | 13
|  | E | 0.0063 | 762 | 5
Other skates | Annual | Gulfwide | 0.0063 | 2,093 | 13
Other species | Annual | Gulfwide | 0.0063 | 4,500 | 28
¹ The Pacific cod A season for trawl gear does not open until January 20.
² The Pacific cod B season for trawl gear closes November 1.

Table 17—Final 2011 GOA Non-Exempt AFA CV Groundfish Harvest Sideboard Limitations
[Values are rounded to nearest metric ton]
Species | Apportionments by season/gear | Area/component | Ratio of 1995-1997 non-exempt AFA CV catch to 1995-1997 TAC | 2011 TAC | 2011 non-exempt AFA CV sideboard limit
Pollock | A Season—January 20-March 10 | Shumagin (610) | 0.6047 | 7,342 | 4,440
|  | Chirikof (620) | 0.1167 | 11,129 | 1,299
|  | Kodiak (630) | 0.2028 | 5,823 | 1,181
| B Season—March 10—May 31 | Shumagin (610) | 0.6047 | 7,342 | 4,440
|  | Chirikof (620) | 0.1167 | 13,128 | 1,532
|  | Kodiak (630) | 0.2028 | 3,824 | 776
| C Season—August 25-October 1 | Shumagin (610) | 0.6047 | 10,022 | 6,060
|  | Chirikof (620) | 0.1167 | 6,451 | 753
|  | Kodiak (630) | 0.2028 | 7,820 | 1,586
| D Season—October 1-November 1 | Shumagin (610) | 0.6047 | 10,022 | 6,060
|  | Chirikof (620) | 0.1167 | 6,451 | 753
|  | Kodiak (630) | 0.2028 | 7,820 | 1,586
| Annual | WYK (640) | 0.3495 | 2,686 | 939
|  | SEO (650) | 0.3495 | 9,245 | 3,231
Pacific cod | A Season ¹ January 1-June 10 | W inshore | 0.1365 | 13,877 | 1,894
|  | W offshore | 0.1026 | 1,542 | 158
|  | C inshore | 0.0689 | 24,583 | 1,694
|  | C offshore | 0.0721 | 2,731 | 197
| B Season ² September 1-December 31 | W inshore | 0.1365 | 9,252 | 1,263
|  | W offshore | 0.1026 | 1,028 | 105
|  | C inshore | 0.0689 | 16,389 | 1,129
|  | C offshore | 0.0721 | 1,821 | 131
| Annual | E inshore | 0.0079 | 2,246 | 18
|  | E offshore | 0.0078 | 250 | 2
Sablefish | Annual, trawl gear | W | 0.0000 | 298 | 0
|  | C | 0.0642 | 808 | 52
|  | E | 0.0433 | 189 | 8
Flatfish, deep-water | Annual | W | 0.0000 | 530 | 0
|  | C | 0.0647 | 2,928 | 189
|  | E | 0.0128 | 2,867 | 37
Flatfish, shallow-water | Annual | W | 0.0156 | 4,500 | 70
|  | C | 0.0587 | 13,000 | 763
|  | E | 0.0126 | 2,562 | 32
Rex sole | Annual | W | 0.0007 | 1,521 | 1
|  | C | 0.0384 | 6,312 | 242
|  | E | 0.0029 | 1,759 | 5
Arrowtooth Flounder | Annual | W | 0.0021 | 8,000 | 17
|  | C | 0.0280 | 30,000 | 840
|  | E | 0.0002 | 5,000 | 1
Flathead sole | Annual | W | 0.0036 | 2,000 | 7
|  | C | 0.0213 | 5,000 | 107
|  | E | 0.0009 | 3,576 | 3
Pacific ocean Perch | Annual | W | 0.0023 | 2,797 | 6
|  | C | 0.0748 | 10,377 | 776
|  | E | 0.0466 | 3,819 | 178
Northern Rockfish | Annual | W | 0.0003 | 2,549 | 1
|  | C | 0.0277 | 2,259 | 63
Rougheye Rockfish | Annual | W | 0.0000 | 81 | 0
|  | C | 0.0237 | 869 | 21
|  | E | 0.0124 | 363 | 5
Shortraker Rockfish | Annual | W | 0.0000 | 134 | 0
|  | C | 0.0218 | 325 | 7
|  | E | 0.0110 | 455 | 5
Other Rockfish | Annual | W | 0.0034 | 212 | 1
|  | C | 0.1699 | 507 | 86
|  | E | 0.0000 | 473 | 0
Pelagic shelf Rockfish | Annual | W | 0.0001 | 607 | 0
|  | C | 0.0000 | 3,035 | 0
|  | E | 0.0067 | 1,085 | 7
Demersal shelf rockfish | Annual | SEO | 0.0020 | 295 | 1
Thornyhead Rockfish | Annual | W | 0.0280 | 425 | 12
|  | C | 0.0280 | 637 | 18
|  | E | 0.0280 | 708 | 20
Atka mackerel | Annual | Gulfwide | 0.0309 | 2,000 | 62
Big skates | Annual | W | 0.0063 | 598 | 4
|  | C | 0.0063 | 2,049 | 13
|  | E | 0.0063 | 681 | 4
Longnose Skates | Annual | W | 0.0063 | 81 | 0
|  | C | 0.0063 | 2,009 | 13
|  | E | 0.0063 | 762 | 5
Other skates | Annual | Gulfwide | 0.0063 | 2,093 | 13
Other species | Annual | Gulfwide | 0.0063 | 4,500 | 28
¹ The Pacific cod A season for trawl gear does not open until January 20.
² The Pacific cod B season for trawl gear closes November 1.

The halibut PSC sideboard limits for non-exempt AFA CVs in the GOA are based on the aggregate retained groundfish catch by non-exempt AFA CVs in each PSC target category from 1995 through 1997 divided by the retained catch of all vessels in that fishery from 1995 through 1997 (§ 679.64(b)(4)). Table 18 lists the final 2010 and 2011 non-exempt AFA CV halibut PSC limits for vessels using trawl gear in the GOA.

Table 18—Final 2010 and 2011 Non-Exempt AFA CV Halibut Prohibited Species Catch (PSC) Limits for Vessels Using Trawl Gear in the GOA
[Values are rounded to nearest metric ton]
Season | Season dates | Target fishery | Ratio of 1995-1997 non-exempt AFA CV retained catch to total retained catch | 2010 and 2011 PSC limit | 2010 and 2011 non- exempt AFA CV PSC limit
1 | January 20-April 1 | shallow-water | 0.340 | 450 | 153
|  | deep-water | 0.070 | 100 | 7
2 | April 1-July 1 | shallow-water | 0.340 | 100 | 34
|  | deep-water | 0.070 | 300 | 21
3 | July 1-September 1 | shallow-water | 0.340 | 200 | 68
|  | deep-water | 0.070 | 400 | 28
4 | September 1-October 1 | shallow-water | 0.340 | 150 | 51
|  | deep-water | 0.070 | 0 | 0
5 | October 1-December 31 | all targets | 0.205 | 300 | 62

Non-AFA Crab Vessel Groundfish Harvest Limitations

Section 680.22 establishes groundfish catch limits for vessels with a history of participation in the Bering Sea snow crab fishery to prevent these vessels from using the increased flexibility provided by the Crab Rationalization Program to expand their level of participation in the GOA groundfish fisheries. Sideboard limits restrict the vessels' catch to their collective historical landings in each GOA groundfish fishery (except the fixed-gear sablefish fishery). Sideboard limits also apply to catch made using an LLP license derived from the history of a restricted vessel, even if that LLP license is used on another vessel.

Sideboard limits for non-AFA crab vessels in the GOA are based on their traditional harvest levels of TAC in groundfish fisheries covered by the FMP. Sections 680.22(d) and (e) base the groundfish sideboard limitations in the GOA on the retained catch by non-AFA crab vessels of each sideboard species from 1996 through 2000 divided by the total retained harvest of that species over the same period. Tables 19 and 20 list the final 2010 and 2011 GOA groundfish sideboard limits for non-AFA crab vessels. All targeted or incidental catch of sideboard species made by non-AFA crab vessels will be deducted from the sideboard limits specified in Tables 19 and 20.

Vessels exempt from Pacific cod sideboards are those that landed less than 45,359 kilograms of Bering Sea snow crab and more than 500 mt of groundfish (in round weight equivalents) from the GOA between January 1, 1996, and December 31, 2000, and any vessel named on an LLP that was generated in whole or in part by the fishing history of a vessel meeting the criteria in § 680.22(a)(3).

Table 19—Final 2010 GOA Non-American Fisheries Act Crab Vessel Groundfish Harvest Sideboard Limits
[Values are rounded to nearest metric ton]
Species | Season/gear | Area/component | Ratio of 1996-2000 non-AFA crab vessel catch to 1996-2000 total harvest | 2010 TAC | 2010 non-AFA crab vessel sideboard limit
Pollock | A Season—January 20-March 10 | Shumagin (610) | 0.0098 | 5,551 | 54
|  | Chirikof (620) | 0.0031 | 8,414 | 26
|  | Kodiak (630) | 0.0002 | 4,403 | 1
| B Season—March 10-May 31 | Shumagin (610) | 0.0098 | 5,551 | 54
|  | Chirikof (620) | 0.0031 | 9,925 | 31
|  | Kodiak (630) | 0.0002 | 2,891 | 1
| C Season—August 25-October 1 | Shumagin (610) | 0.0098 | 7,577 | 74
|  | Chirikof (620) | 0.0031 | 4,878 | 15
|  | Kodiak (630) | 0.0002 | 5,912 | 1
| D Season—October 1-November 1 | Shumagin (610) | 0.0098 | 7,577 | 74
|  | Chirikof (620) | 0.0031 | 4,878 | 15
|  | Kodiak (630) | 0.0002 | 5,912 | 1
| Annual | WYK (640) | 0.0000 | 2,031 | 0
|  | SEO (650) | 0.0000 | 9,245 | 0
Pacific cod | A Season ¹—January 1-June 10 | W inshore | 0.0902 | 11,212 | 1,011
|  | W offshore | 0.2046 | 1,246 | 255
|  | C inshore | 0.0383 | 19,862 | 761
|  | C offshore | 0.2074 | 2,207 | 458
| B Season ²—September 1-December 31 | W inshore | 0.0902 | 7,475 | 674
|  | W offshore | 0.2046 | 831 | 170
|  | C inshore | 0.0383 | 13,242 | 507
|  | C offshore | 0.2074 | 1,471 | 305
| Annual | E inshore | 0.0110 | 1,815 | 20
|  | E offshore | 0.0000 | 202 | 0
Sablefish | Annual, trawl gear | W | 0.0000 | 332 | 0
|  | C | 0.0000 | 902 | 0
|  | E | 0.0000 | 210 | 0
Flatfish, deep-water | Annual | W | 0.0035 | 521 | 2
|  | C | 0.0000 | 2,865 | 0
|  | E | 0.0000 | 2,804 | 0
Flatfish, shallow-water | Annual | W | 0.0059 | 4,500 | 27
|  | C | 0.0001 | 13,000 | 1
|  | E | 0.0000 | 2,562 | 0
Rex sole | Annual | W | 0.0000 | 1,543 | 0
|  | C | 0.0000 | 6,403 | 0
|  | E | 0.0000 | 1,783 | 0
Arrowtooth Flounder | Annual | W | 0.0004 | 8,000 | 3
|  | C | 0.0001 | 30,000 | 3
|  | E | 0.0000 | 5,000 | 0
Flathead Sole | Annual | W | 0.0002 | 2,000 | 0
|  | C | 0.0004 | 5,000 | 2
|  | E | 0.0000 | 3,441 | 0
Pacific ocean Perch | Annual | W | 0.0000 | 2,895 | 0
|  | C | 0.0000 | 10,737 | 0
|  | E | 0.0000 | 3,952 | 0
Northern Rockfish | Annual | W | 0.0005 | 2,703 | 1
|  | C | 0.0000 | 2,395 | 0
Rougheye Rockfish | Annual | W | 0.0067 | 80 | 1
|  | C | 0.0047 | 862 | 4
|  | E | 0.0008 | 360 | 0
Shortraker Rockfish | Annual | W | 0.0013 | 134 | 0
|  | C | 0.0012 | 325 | 0
|  | E | 0.0009 | 455 | 0
Other Rockfish | Annual | W | 0.0035 | 212 | 1
|  | C | 0.0033 | 507 | 2
|  | E | 0.0000 | 473 | 0
Pelagic shelf Rockfish | Annual | W | 0.0017 | 650 | 1
|  | C | 0.0000 | 3,249 | 0
|  | E | 0.0000 | 1,160 | 0
Demersal shelf Rockfish | Annual | SEO | 0.0000 | 295 | 0
Thornyhead Rockfish | Annual | W | 0.0047 | 425 | 2
|  | C | 0.0066 | 637 | 4
|  | E | 0.0045 | 708 | 3
Atka mackerel | Annual | Gulfwide | 0.0000 | 2,000 | 0
Big skate | Annual | W | 0.0392 | 598 | 23
|  | C | 0.0159 | 2,049 | 33
|  | E | 0.0000 | 681 | 0
Longnose Skate | Annual | W | 0.0392 | 81 | 3
|  | C | 0.0159 | 2,009 | 32
|  | E | 0.0000 | 762 | 0
Other skates | Annual | Gulfwide | 0.0176 | 2,093 | 37
Other species | Annual | Gulfwide | 0.0176 | 4,500 | 79
¹ The Pacific cod A season for trawl gear does not open until January 20.
² The Pacific cod B season for trawl gear closes November 1.

Table 20—Final 2011 GOA Non-American Fisheries Act Crab Vessel Groundfish Harvest Sideboard Limits
[Values are rounded to nearest metric ton]
Species | Season/gear | Area/component | Ratio of 1996-2000 non-AFA crab vessel catch to 1996-2000 total harvest | 2011 TAC | 2011 non-AFA crab vessel sideboard limit
Pollock | A Season—January 20-March 10 | Shumagin (610) | 0.0098 | 7,342 | 72
|  | Chirikof (620) | 0.0031 | 11,129 | 34
|  | Kodiak (630) | 0.0002 | 5,823 | 1
| B Season—March 10-May 31 | Shumagin (610) | 0.0098 | 7,342 | 72
|  | Chirikof (620) | 0.0031 | 13,128 | 41
|  | Kodiak (630) | 0.0002 | 3,824 | 1
| C Season—August 25-October 1 | Shumagin (610) | 0.0098 | 10,022 | 98
|  | Chirikof (620) | 0.0031 | 6,451 | 20
|  | Kodiak (630) | 0.0002 | 7,820 | 2
| D Season—October 1-November 1 | Shumagin (610) | 0.0098 | 10,022 | 98
|  | Chirikof (620) | 0.0031 | 6,451 | 20
|  | Kodiak (630) | 0.0002 | 7,820 | 2
| Annual | WYK (640) | 0.0000 | 2,686 | 0
|  | SEO (650) | 0.0000 | 9,245 | 0
Pacific cod | A Season ¹ January 1-June 10 | W inshore | 0.0902 | 13,877 | 1,252
|  | W offshore | 0.2046 | 1,542 | 315
|  | C inshore | 0.0383 | 24,583 | 942
|  | C offshore | 0.2074 | 2,731 | 566
| B Season ² September 1-December 31 | W inshore | 0.0902 | 9,252 | 835
|  | W offshore | 0.2046 | 1,028 | 210
|  | C inshore | 0.0383 | 16,389 | 628
|  | C offshore | 0.2074 | 1,821 | 378
| Annual | E inshore | 0.0110 | 2,246 | 25
|  | E offshore | 0.0000 | 250 | 0
Sablefish | Annual, trawl gear | W | 0.0000 | 298 | 0
|  | C | 0.0000 | 808 | 0
|  | E | 0.0000 | 188 | 0
Flatfish, deep-water | Annual | W | 0.0035 | 530 | 2
|  | C | 0.0000 | 2,928 | 0
|  | E | 0.0000 | 2,867 | 0
Flatfish, shallow-water | Annual | W | 0.0059 | 4,500 | 27
|  | C | 0.0001 | 13,000 | 1
|  | E | 0.0000 | 2,562 | 0
Rex sole | Annual | W | 0.0000 | 1,541 | 0
|  | C | 0.0000 | 6,312 | 0
|  | E | 0.0000 | 1,759 | 0
Arrowtooth Flounder | Annual | W | 0.0004 | 8,000 | 3
|  | C | 0.0001 | 30,000 | 3
|  | E | 0.0000 | 5,000 | 0
Flathead Sole | Annual | W | 0.0002 | 2,000 | 0
|  | C | 0.0004 | 5,000 | 2
|  | E | 0.0000 | 3,576 | 0
Pacific ocean Perch | Annual | W | 0.0000 | 2,797 | 0
|  | C | 0.0000 | 10,377 | 0
|  | E | 0.0000 | 3,819 | 0
Northern Rockfish | Annual | W | 0.0005 | 2,549 | 1
|  | C | 0.0000 | 2,259 | 0
Rougheye Rockfish | Annual | W | 0.0067 | 81 | 1
|  | C | 0.0047 | 869 | 4
|  | E | 0.0008 | 363 | 0
Shortraker Rockfish | Annual | W | 0.0013 | 134 | 0
|  | C | 0.0012 | 325 | 0
|  | E | 0.0009 | 455 | 0
Other Rockfish | Annual | W | 0.0035 | 212 | 1
|  | C | 0.0033 | 507 | 2
|  | E | 0.0000 | 473 | 0
Pelagic shelf Rockfish | Annual | W | 0.0017 | 607 | 1
|  | C | 0.0000 | 3,035 | 0
|  | E | 0.0000 | 1,085 | 0
Demersal shelf Rockfish | Annual | SEO | 0.0000 | 295 | 0
Thornyhead Rockfish | Annual | W | 0.0047 | 425 | 2
|  | C | 0.0066 | 637 | 4
|  | E | 0.0045 | 708 | 3
Atka mackerel | Annual | Gulfwide | 0.0000 | 2,000 | 0
Big skate | Annual | W | 0.0392 | 598 | 23
|  | C | 0.0159 | 2,049 | 33
|  | E | 0.0000 | 681
Longnose Skate | Annual | W | 0.0392 | 81 | 3
|  | C | 0.0159 | 2,009 | 32
|  | E | 0.0000 | 762 | 0 | Other skates | Annual | Gulfwide | 0.0176 | 2,093 | 37
Other species | Annual | Gulfwide | 0.0176 | 4,500 | 79
¹ The Pacific cod A season for trawl gear does not open until January 20.
² The Pacific cod B season for trawl gear closes November 1.

Rockfish Program Groundfish Sideboard Limitations and Halibut Mortality Limitations

Section 679.82(d) establishes sideboards to limit the ability of participants eligible for the Rockfish Program to harvest fish in fisheries other than the Central GOA rockfish fisheries. The Rockfish Program provides certain economic advantages to harvesters, who could use this economic advantage to increase their participation in other fisheries, thus possibly adversely affecting participants in other fisheries. The final sideboards for 2010 and 2011 limit the total amount of catch that could be taken by eligible harvesters and limit the amount of halibut mortality to historic levels. The sideboard measures are in effect only during the month of July. Traditionally, the Central GOA rockfish fisheries opened in July. The sideboards are designed to restrict fishing during the historical season for the fishery, but allow eligible rockfish harvesters to participate in fisheries before or after the historical rockfish season. Tables 21 and 22 list the final 2010 and 2011 Rockfish Program harvest limits in the WYK District and the Western GOA. Table 23 lists the final 2010 and 2011 Rockfish Program halibut mortality limits for catcher/processors and CVs.

Table 21—Final 2010 Rockfish Program Harvest Limits by Sector for WYK District and Western Regulatory Area by the Catcher/Processor (C/P) and Catcher Vessel (CV) Sectors
[Values are rounded to nearest metric ton]
Area | Fishery | C/P sector (% of TAC) | CV sector (% of TAC) | 2010 TAC | 2010 C/P limit | 2010 CV limit
West Yakutat District | Pelagic shelf rockfish | 72.4 | 1.7 | 434 | 314 | 7
| Pacific ocean perch | 76.0 | 2.9 | 2,004 | 1,523 | 58
Western GOA | Pelagic shelf rockfish | 63.3 | 0 | 650 | 411 | 0
| Pacific ocean perch | 61.1 | 0 | 2,895 | 1,769 | 0
| Northern rockfish | 78.9 | 0 | 2,703 | 2,133 | 0

Table 22—Final 2011 Rockfish Program Harvest Limits by Sector for WYK District and Western Regulatory Area by the Catcher/Processor (C/P) and Catcher Vessel (CV) Sectors
[Values are rounded to nearest metric ton]
Area | Fishery | C/P sector (% of TAC) | CV sector (% of TAC) | 2011 TAC | 2011 C/P limit | 2011 CV limit
West Yakutat District | Pelagic shelf rockfish | 72.4 | 1.7 | 405 | 293 | 7
| Pacific ocean perch | 76.0 | 2.9 | 1,937 | 1,472 | 56
Western GOA | Pelagic shelf rockfish | 63.3 | 0 | 607 | 384 | 0
| Pacific ocean perch | 61.1 | 0 | 2,797 | 1,709 | 0
| Northern rockfish | 78.9 | 0 | 2,549 | 2,011 | 0

Table 23—Final 2010 and 2011 Rockfish Program Halibut Mortality Limits for the Catcher/Processor (C/P) and Catcher Vessel (CV) Sectors
[Values are rounded to nearest metric ton]
Sector | Shallow-water complex halibut PSC sideboard ratio (percent) | Deep-water complex halibut PSC sideboard ratio (percent) | Annual halibut mortality limit (mt) | Annual shallow-water complex halibut PSC sideboard limit (mt) | Annual deep-water complex halibut PSC sideboard limit (mt)
C/P | 0.54 | 3.99 | 2,000 | 11 | 80
CV | 6.32 | 1.08 | 2,000 | 126 | 22

GOA Amendment 80 Vessel Groundfish Harvest and PSC Limits

Amendment 80 to the Fishery Management Plan for Groundfish of the Bering Sea and Aleutian Islands Management Area, hereinafter referred to as the “Amendment 80 program,” established a limited access privilege program for the non-AFA trawl catcher/processor sector. In order to limit the ability of participants eligible for the Amendment 80 program to expand their harvest efforts in the GOA, the Amendment 80 program established groundfish and halibut PSC catch limits for Amendment 80 program participants.

Section 679.92 establishes groundfish harvesting sideboard limits on all Amendment 80 program vessels, other than the F/V GOLDEN FLEECE, to amounts no greater than the limits shown in Table 37 to part 679. Sideboard limits in the GOA are for pollock in the Western and Central Regulatory Areas and in the WYK District, for Pacific cod gulfwide, for Pacific ocean perch and pelagic shelf rockfish in the Western Regulatory Area and WYK District, and for northern rockfish in the Western Regulatory Area. The harvest of Pacific ocean perch, pelagic shelf rockfish, and northern rockfish in the Central Regulatory Area of the GOA is subject to regulation under the Central GOA Rockfish Program. Amendment 80 program vessels not qualified under the Rockfish Program are excluded from directed fishing for these rockfish species in the Central GOA. Under regulations, the F/V GOLDEN FLEECE is prohibited from directed fishing for pollock, Pacific cod, Pacific ocean perch, pelagic shelf rockfish, and northern rockfish in the GOA.

Groundfish sideboard limits for Amendment 80 program vessels operating in the GOA are based on their average aggregate harvests from 1998 to 2004. Tables 24 and 25 list the final 2010 and 2011 sideboard limits for Amendment 80 program vessels, respectively. All targeted or incidental catch of sideboard species made by Amendment 80 program vessels will be deducted from the sideboard limits in Tables 24 and 25.

Table 24—Final 2010 GOA Groundfish Sideboard Limits for Amendment 80 Program Vessels
[Values are rounded to nearest metric ton]
Species | Apportionments and allocations by season | Area | Ratio of Amendment 80 sector vessels 1998-2004 catch to TAC | 2010 TAC (mt) | 2010 Amendment 80 vessel sideboards (mt)
Pollock | A Season—January 20-February 25 | Shumagin (610) | 0.003 | 5,551 | 17
|  | Chirikof (620) | 0.002 | 8,414 | 17
|  | Kodiak (630) | 0.002 | 4,403 | 9
| B Season—March 10-May 31 | Shumagin (610) | 0.003 | 5,551 | 17
|  | Chirikof (620) | 0.002 | 9,925 | 20
|  | Kodiak (630) | 0.002 | 2,891 | 6
| C Season—August 25-September 15 | Shumagin (610) | 0.003 | 7,577 | 23
|  | Chirikof (620) | 0.002 | 4,878 | 10
|  | Kodiak (630) | 0.002 | 5,912 | 12
| D Season—October 1-November 1 | Shumagin (610) | 0.003 | 7,577 | 23
|  | Chirikof (620) | 0.002 | 4,878 | 10
|  | Kodiak (630) | 0.002 | 5,912 | 12
| Annual | WYK (640) | 0.002 | 2,031 | 5
Pacific cod | A Season ¹—January 1-June 10 | W | 0.020 | 12,458 | 249
|  | C | 0.044 | 22,069 | 971
| B Season ²—September 1-December 31 | W | 0.020 | 8,306 | 166
|  | C | 0.044 | 14,713 | 647
| Annual | WYK | 0.034 | 2,017 | 69
Pacific ocean perch | Annual | W | 0.994 | 2,895 | 2,878
|  | WYK | 0.961 | 2,004 | 1,926
Northern rockfish | Annual | W | 1.000 | 2,703 | 2,703
Pelagic shelf rockfish | Annual | W | 0.764 | 650 | 497
|  | WYK | 0.896 | 434 | 389
¹ The Pacific cod A season for trawl gear does not open until January 20.
² The Pacific cod B season for trawl gear closes November 1.

Table 25—Final 2011 GOA Groundfish Sideboard Limits for Amendment 80 Program Vessels
[Values are rounded to nearest metric ton]
Species | Apportionments and allocations by season | Area | Ratio of Amendment 80 sector vessels 1998-2004 catch to TAC | 2011 TAC (mt) | 2011 Amendment 80 vessel sideboards (mt)
Pollock | A Season—January 20-February 25 | Shumagin (610) | 0.003 | 7,342 | 22
|  | Chirikof (620) | 0.002 | 11,129 | 22
|  | Kodiak (630) | 0.002 | 5,823 | 12
| B Season—March 10-May 31 | Shumagin (610) | 0.003 | 7,342 | 22
|  | Chirikof (620) | 0.002 | 13,128 | 26
|  | Kodiak (630) | 0.002 | 3,824 | 8
| C Season—August 25-September 15 | Shumagin (610) | 0.003 | 10,022 | 30
|  | Chirikof (620) | 0.002 | 6,451 | 13
|  | Kodiak (630) | 0.002 | 7,820 | 16
| D Season—October 1-November 1 | Shumagin (610) | 0.003 | 10,022 | 30
|  | Chirikof (620) | 0.002 | 6,451 | 13
|  | Kodiak (630) | 0.002 | 7,820 | 16
| Annual | WYK (640) | 0.002 | 2,686 | 5
Pacific cod | A Season¹—January 1-June 10 | W | 0.020 | 15,419 | 308
|  | C | 0.044 | 27,314 | 1,202
| B Season²—September 1-December 31 | W | 0.020 | 10,280 | 206
|  | C | 0.044 | 18,210 | 801
| Annual | WYK | 0.034 | 2,496 | 85
Pacific ocean perch | Annual | W | 0.994 | 2,797 | 2,780
|  | WYK | 0.961 | 1,937 | 1,861
Northern rockfish | Annual | W | 1.000 | 2,549 | 2,549
Pelagic shelf rockfish | Annual | W | 0.764 | 607 | 464
|  | WYK | 0.896 | 405 | 363
¹ The Pacific cod A season for trawl gear does not open until January 20.
² The Pacific cod B season for trawl gear closes November 1.

The PSC sideboard limits for Amendment 80 program vessels in the GOA are based on the historic use of halibut PSC by Amendment 80 program vessels in each PSC target category from 1998 through 2004. These values are slightly lower than the average historic use to accommodate two factors: Allocation of halibut PSC Cooperative Quotas (CQs) under the Central GOA Rockfish Program and the exemption of the F/V GOLDEN FLEECE from this restriction (§ 679.92(b)(2)). Table 26 lists the final 2010 and 2011 halibut PSC limits for Amendment 80 program vessels, as proscribed at Table 38 to 50 CFR part 679.

Table 26—Final 2010 and 2011 Halibut PSC Limits for Amendment 80 Program Vessels in the GOA
[Values are rounded to nearest metric ton]
Season | Season dates | Target fishery | Historic Amendment 80 use of the annual halibut PSC limit catch (ratio) | 2010 and 2011 annual PSC limit (mt) | 2010 and 2011 Amendment 80 vessel PSC limit (mt)
1 | January 20-April 1 | shallow-water | 0.0048 | 2,000 | 10
|  | deep-water | 0.0115 | 2,000 | 23
2 | April 1-July 1 | shallow-water | 0.0189 | 2,000 | 38
|  | deep-water | 0.1072 | 2,000 | 214
3 | July 1-September 1 | shallow-water | 0.0146 | 2,000 | 29
|  | deep-water | 0.0521 | 2,000 | 104
4 | September 1-October 1 | shallow-water | 0.0074 | 2,000 | 15
|  | deep-water | 0.0014 | 2,000 | 3
5 | October 1-December 31 | shallow-water | 0.0227 | 2,000 | 45
|  | deep-water | 0.0371 | 2,000 | 74

Directed Fishing Closures

Pursuant to § 679.20(d)(1)(i), if the Regional Administrator determines (1) that any allocation or apportionment of a target species or “other species” category allocated or apportioned to a fishery will be reached; or (2) with respect to pollock and Pacific cod, that an allocation or apportionment to an inshore or offshore component allocation will be reached, the Regional Administrator may establish a DFA for that species or species group. If the Regional Administrator establishes a DFA and that allowance is or will be reached before the end of the fishing year, NMFS will prohibit directed fishing for that species or species group in the specified GOA regulatory area or district (§ 679.20(d)(1)(iii)).

The Regional Administrator has determined that the following TAC amounts in Table 27 are necessary as incidental catch to support other anticipated groundfish fisheries for the 2010 and 2011 fishing years:

Table 27—2010 and 2011 Directed Fishing Closures in the GOA
[Amounts for incidental catch in other directed fisheries are in metric tons]
Target | Area/component/gear | Incidental catch amount
Atka mackerel | all | 2,000.
Thornyhead rockfish | all | 1,770.
Shortraker rockfish | all | 914.
Rougheye rockfish | all | 1,302 (2010); 1,313 (2011).
Other rockfish | all | 1,192.
Sablefish | all/trawl | 1,444 (2010); 1,295 (2011).
Big skate | all | 3,328.
Longnose skate | all | 2,852.
Other skates | all | 2,093.
Pollock | all/offshore | unknown¹.
¹Pollock is closed to directed fishing in the GOA by the offshore component under § 679.20(a)(6)(i).

Consequently, in accordance with § 679.20(d)(1)(i), the Regional Administrator establishes the DFA for the species or species groups listed in Table 27 as zero. Therefore, in accordance with § 679.20(d)(1)(iii), NMFS is prohibiting directed fishing for those species, areas, gear types, and components in the GOA listed in Table 27. These closures will remain in effect through 2400 hrs, A.l.t., December 31, 2011.

Section 679.64(b)(5) provides for management of AFA CV groundfish harvest limits and PSC bycatch limits using directed fishing closures and PSC closures according to procedures set out at §§ 679.20(d)(1)(iv), 679.21(d)(8), and 679.21(e)(3)(v). The Regional Administrator has determined that, in addition to the closures listed above, many of the non-exempt AFA CV sideboard limits listed in Tables 16 and 17 are necessary as incidental catch to support other anticipated groundfish fisheries for the 2010 and 2011 fishing years. In accordance with § 679.20(d)(1)(iv), the Regional Administrator sets the DFAs for the species and species groups in Table 28 at zero. Therefore, in accordance with § 679.20(d)(1)(iii), NMFS is prohibiting directed fishing by non-exempt AFA CVs in the GOA for the species and specified areas listed in Table 28. These closures will remain in effect through 2400 hrs, A.l.t., December 31, 2011.

Table 28—2010 and 2011 Non-Exempt AFA CV Sideboard Directed Fishing Closures for All Gear Types in the GOA
[Amounts for incidental catch in other directed fisheries are in metric tons]
Species | Regulatory area/district | Incidental catch amount
Pacific cod | Eastern | 16 (inshore) and 2 (offshore) in 2010. 18 (inshore) and 2 (offshore) in 2011.
Deep-water flatfish | Western | 0.
Rex sole | Eastern and Western | 5 and 1.
Flathead sole | Eastern and Western | 3 and 7.
Arrowtooth flounder | Eastern and Western | 1 and 17.
Pacific ocean perch | Western | 7 in 2010. 6 in 2011.
Northern rockfish | Western | 1.
Pelagic shelf rockfish | Entire GOA | 0 (W), 0 (C), 8 (E) in 2010. 0 (W), 0 (C), 7 (E) in 2011.
Demersal shelf rockfish | SEO District | 1

Section 680.22 provides for the management of non-AFA crab vessel GHLs using directed fishing closures in accordance with § 680.22(e)(2) and (3). The Regional Administrator has determined that the non-AFA crab vessel sideboards listed in Tables 19 and 20 are insufficient to support a directed fishery and set the sideboard DFA at zero, with the exception of Pacific cod in the Western and Central Regulatory Areas. Therefore, NMFS is prohibiting directed fishing by non-AFA crab vessels in the GOA for all species and species groups listed in Tables 19 and 20, with the exception of Pacific cod in the Western and Central Regulatory Areas.

Section 679.82 provides for the management of Rockfish Program sideboard limits using directed fishing closures in accordance with § 679.82(d)(7)(i) and (ii). The Regional Administrator has determined that the CV sideboards listed in Tables 21 and 22 are insufficient to support a directed fishery and set the sideboard DFA at zero. Therefore, NMFS is closing directed fishing for pelagic shelf rockfish and Pacific ocean perch in the WYK District and the Western Regulatory Area and for northern rockfish in the Western Regulatory Area by CVs participating in the Central GOA Rockfish Program during the month of July in 2010 and 2011. These closures will remain in effect through 2400 hrs, A.l.t., December 31, 2011.

Closures implemented under the 2009 and 2010 Gulf of Alaska harvest specifications for groundfish (74 FR 7333, February 17, 2009) remain effective under authority of these final 2010 and 2011 harvest specifications, and are posted at the following Web sites: http://alaskafisheries.noaa.gov/index/infobulletins/infobulletins.asp?Yr=2010, and http://alaskafisheries.noaa.gov/2010/status.htm. While these closures are in effect, the maximum retainable amounts at § 679.20(e) and (f) apply at any time during a fishing trip. These closures to directed fishing are in addition to closures and prohibitions found in regulations at 50 CFR part 679. NMFS may implement other closures during the 2010 and 2011 fishing years as necessary for effective conservation and management.

Response to Comments

NMFS received three letters of comment, which included six distinct comments, in response to the proposed 2010 and 2011 harvest specifications (74 FR 62533, November 30, 2009). These letters were from an individual, an environmental organization, and a company involved in the guided Pacific halibut sport fishery in Alaska, respectively. These comments are summarized and responded to below.

Comment 1: The commenter raises general concerns about NMFS's management of fisheries, asserting that fishery policies have not benefited American citizens. The commenter also asserts that NMFS does not enforce fisheries regulations and should not be allowed to manage commercial fisheries.

Response: This comment is not specifically related to the proposed rule. The comment recommends broad changes to fisheries management and provides opinions of the Federal Government's general management of marine resources that are outside the scope of this action. The comment did not raise new relevant issues or concerns that have not been explained in the preamble to the proposed rule or addressed in the SAFE reports and other analyses prepared to support the GOA groundfish harvest specifications.

Comment 2: The comment asserts that the groundfish quotas are too high.

Response: The harvest specifications process is intended to foster conservation and management of marine resources. This process incorporates the best available scientific information from the most recent stock assessment and fisheries evaluation reports prepared by multi-disciplinary teams of scientists. Such reports contain the most recent scientific information on the condition of various groundfish stocks, as well as the condition of other ecosystem components and economic data about Alaska groundfish fisheries. This suite of information allows the Council to make scientifically-based recommendations for annual catch limits that do not exceed, on a species-by-species basis, the OFLs and ABCs established for each GOA target species managed under the FMP.

Comment 3: Overfishing is having a detrimental effect on the health of oceans and coastal communities.

Response: This comment does not specially address the proposed 2010 and 2011 harvest specifications for the GOA. None of the species encompassed by these harvest specifications are overfished or subject to overfishing.

Comment 4: The decline of pollock stocks is having a detrimental impact on marine mammals.

Response: The most recent GOA pollock stock surveys indicate that pollock stocks in this management area are increasing. Furthermore, the EIS (see ADDRESSES) prepared for the Alaska groundfish fisheries specifications process identified a preferred harvest strategy for groundfish and concluded that the preferred harvest strategy, under existing regulations, would have no lasting adverse impacts on marine mammals and other marine life. Additionally, pursuant to the Endangered Species Act, NMFS consults to ensure that Federal actions, including this one, do not jeopardize the continued existence of any endangered or threatened marine mammal species.

Comment 5: Federal agencies are obligated to renew an EIS when conditions prevalent at the time of the EIS's development have substantially changed. Recent reductions in the amount of halibut allocated to the halibut IFQ fisheries, as well as implementation of a one-halibut daily bag limit for the guided sport fishery in 2009, constitute a substantial change in environmental conditions. NMFS should update the EIS and adopt reductions in the halibut PSC limits to address the disparity between relatively constant halibut PSC limits and decreasing IFQ halibut and sport halibut allocations.

Response: The EIS examines the environmental impacts of alternative harvest strategies for the federally managed groundfish fisheries in the GOA and the BSAI management areas. The EIS concludes that for all of the components of the environment analyzed, the effects of the harvest specifications, including PSC limits, are insignificant based on the available scientific information. That information is annually updated and incorporated into the harvest specifications process. The EIS explains how PSC limits constrain bycatch in the groundfish fisheries, as well as how halibut bycatch is accounted for by the IPHC. The IPHC is responsible for analyzing the status of halibut stocks and setting the constant exploitation yield (CEY). The CEY is adjusted to account for a variety of removals that occur outside of the commercial hook-and-line fisheries, including incidental catch of halibut in the groundfish fisheries.

NMFS annually prepares a SIR (see ADDRESSES) to evaluate the need to prepare a Supplemental EIS. A Supplemental EIS should be prepared if the agency makes substantial changes in a proposed action that are relevant to environmental concerns, or if significant new circumstances or information exist relevant to environmental concerns associated with the action. The 2010 SIR analyzes the information contained in the Council's SAFE reports and other new, relevant information associated with the management of Alaska groundfish fisheries. The SIR concluded that (1) new changes to the preferred harvest strategy (the action) have not occurred and (2) the new information evaluated in the SIR does not indicate that there are significant new circumstances or information relevant to environmental concerns and bearing on the proposed action or its impacts. The harvest specifications will result in environmental impacts within the scope of those analyzed and disclosed in the EIS.

Comment 6: Businesses engaged in the guided sport fishing sector in IPHC Area 2C have suffered economic and social impacts due to the 2009 implementation of a one-halibut daily bag limit for guided sport fishermen. These impacts could be mitigated to some extent by managing the halibut PSC limit apportioned to the GOA trawl fisheries to mirror the fluctuations in the directed fishery catch limits set by the IPHC.

Response: The commercial halibut setline and groundfish trawl fisheries currently are subject to binding halibut PSC limits set by the IPHC and Council, respectively, as a part of their efforts to maintain sustainable groundfish stocks. These commercial fisheries are required to stop fishing when their halibut limits (either IFQ or PSC) are taken. Commercial groundfish fisheries are often closed due to the attainment of halibut PSC limits before target species TACs have been fully harvested. Participants in these fisheries incur significant costs to stay within their halibut catch limits. The issue regarding changes to commercial catch limits was considered during the development of the one-halibut daily bag limit (74 FR 21194, May 6, 2009). In the context of seeking economic parity between halibut resource user groups, implementing additional restrictions on the incidental catch of halibut by the commercial fishing sector is outside the scope of this action.

Classification

NMFS has determined that these final harvest specifications are consistent with the FMP and with the Magnuson-Stevens Act and other applicable laws.

This action is authorized under 50 CFR 679.20 and is exempt from review under Executive Order 12866.

NMFS prepared an EIS for this action (see ADDRESSES) and made it available to the public on January 12, 2007 (72 FR 1512). On February 13, 2007, NMFS issued the Record of Decision (ROD) for the EIS. In January 2010, NMFS prepared a Supplemental Information Report (SIR) for this action. Copies of the EIS, ROD, and SIR for this action are available from NMFS (see ADDRESSES). The EIS analyzes the environmental consequences of the groundfish harvest specifications and alternative harvest strategies on resources in the action area. The SIR evaluates the need to prepare a Supplemental EIS (SEIS) for the 2010 and 2011 groundfish harvest specifications.

A SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Regional Administrator has determined that (1) approval of the 2010 and 2011 harvest specifications, which were set according to the preferred harvest strategy in the EIS, do not constitute a change in the action; and (2) there are no significant new circumstances or information relevant to environmental concerns and bearing on the action or its impacts. Additionally, the 2010 and 2011 harvest specifications will result in environmental impacts within the scope of those analyzed and disclosed in the EIS. Therefore, supplemental National Environmental Protection Act (NEPA) documentation is not necessary to implement the 2010 and 2011 harvest specifications.

The proposed harvest specifications were published in the Federal Register on November 30, 2009 (74 FR 62533). An Initial Regulatory Flexibility Analysis (IRFA) was prepared to evaluate the impacts on small entities of alternative harvest strategies for the groundfish fisheries in the EEZ off Alaska. The public comment period ended on December 30, 2009. No comments were received regarding the IRFA or the economic impacts of this action. A FRFA was prepared pursuant to the Regulatory Flexibility Act of 1980, as amended by the Small Business Regulatory Enforcement Fairness Act of 1996 (5 U.S.C. 601-612). Copies of the IRFA and FRFA prepared for this action are available from NMFS, Alaska Region (see ADDRESSES).

Each year, NMFS promulgates a rule establishing the harvest specifications pursuant to the adopted harvest strategy. While the harvest specification numbers may change from year to year, the harvest strategy for establishing those numbers does not change. Therefore, NMFS is using the same IRFA and FRFA prepared in connection with the EIS in association with this action. NMFS considers the annual rulemakings establishing the harvest specification numbers to be a series of closely-related rules stemming from the harvest strategy and representing one rule for purposes of the Regulatory Flexibility Act (5 U.S.C. 605(c)). A summary of the FRFA follows.

The action analyzed in the FRFA is the adoption of a harvest strategy to govern the catch of groundfish in the GOA. The preferred alternative is the status quo harvest strategy in which TACs fall within the range of ABCs recommended by the Council's harvest specifications process and TACs recommended by the Council. This action is taken in accordance with the FMP prepared by the Council pursuant to the Magnuson-Stevens Act.

The directly regulated small entities include approximately 747 small CVs and fewer than 20 small catcher/processors. The entities directly regulated by this action harvest groundfish in the EEZ of the GOA, and in parallel fisheries within State of Alaska waters. These include entities operating CVs and catcher/processor vessels within the action area, and entities receiving direct allocations of groundfish. CVs and catcher/processors were considered to be small entities if they had annual gross receipts of $4 million per year or less from all economic activities, including the revenue of their affiliated operations. Data from 2005 were the most recent available to determine the number of small entities.

Estimates of first wholesale gross revenues for the GOA were used as indices of the potential impacts of the alternative harvest strategies on small entities. An index of revenues was projected to decline under the preferred alternative due to declines in ABCs for key species in the GOA. The index of revenues declined by less than four percent between 2007 and 2008, and by less than one percent between 2007 and 2009.

The preferred alternative (Alternative 2) was compared to four other alternatives. These included Alternative 1, which would have set TACs to generate fishing rates equal to the maximum permissible ABC (if the full TAC were harvested), unless the sum of TACs exceeded the GOA OY, in which case harvests would be limited to the OY. Alternative 3 would have set TACs to produce fishing rates equal to the most recent five-year average fishing rate. Alternative 4 would have set TACs to equal the lower limit of the GOA OY range. Alternative 5—the “no action” alternative—would have set TACs equal to zero.

Alternatives 3, 4, and 5 were all associated with smaller levels for important fishery TACs than Alternative 2. Estimated total first wholesale gross revenues were used as an index of potential adverse impacts to small entities. As a consequence of the lower TAC levels, Alternatives 3, 4, and 5 all had smaller first wholesale revenue indices than Alternative 2. Thus, Alternatives 3, 4, and 5 had greater adverse impacts on small entities. Alternative 1 appeared to generate higher values of the gross revenue index for fishing operations in the GOA than Alternative 2. A large part of the Alternative 1 GOA revenue appears to be due to the assumption that the full Alternative 1 TAC would be harvested. This increased revenue is due to increases in flatfish TACs that were much higher for Alternative 1 than for Alternative 2. In recent years, halibut bycatch constraints in these fisheries have kept actual flatfish catches from reaching Alternative 1 levels. Therefore, a large part of the revenues associated with Alternative 1 are unlikely to occur. Also, Alternative 2 TACs are constrained by the ABCs the Plan Teams and SSC are likely to recommend to the Council on the basis of a full consideration of biological issues. These ABCs are often less than Alternative 1's maximum permissible ABCs; therefore higher TACs under Alternative 1 may not be consistent with prudent biological management of the resource. For these reasons, Alternative 2 is the preferred alternative.

This action does not modify recordkeeping or reporting requirements, or duplicate, overlap, or conflict with any Federal rules.

Adverse impacts on marine mammals resulting from fishing activities conducted under this rule are discussed in the EIS (see ADDRESSES).

Pursuant to 5 U.S.C. 553(d)(3), the Assistant Administrator for Fisheries, NOAA, finds good cause to waive the 30-day delay in effectiveness for this rule. Plan Team review occurred in November 2009, and Council consideration and recommendations occurred in December 2009. Accordingly, NMFS review could not begin until January 2010. For all fisheries not currently closed because the TACs established under the final 2009 and 2010 harvest specifications (74 FR 7333, February 17, 2009) were not reached, the possibility exists that they would be closed prior to the expiration of a 30-day delayed effectiveness period, if implemented, because their TACs could be reached. Certain fisheries, such as those for pollock and Pacific cod are intensive, fast-paced fisheries. Other fisheries, such as those for flatfish, rockfish, and “other species,” are critical as directed fisheries and as incidental catch in other fisheries. U.S. fishing vessels have demonstrated the capacity to catch the TAC allocations in these fisheries. Any delay in allocating the final TACs in these fisheries would cause confusion to the industry and potential economic harm through unnecessary discards. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries and causing them to close at an accelerated pace.

In fisheries subject to declining sideboards, a failure to implement the updated sideboards before initial season's end could preclude the intended economic protection to the non-sideboarded sectors. Conversely, in fisheries with increasing sideboards, economic benefit could be precluded to the sideboarded sectors.

If the final harvest specifications are not effective by March 6, 2010, which is the start of the 2010 Pacific halibut season as specified by the IPHC, the hook-and-line sablefish fishery will not begin concurrently with the Pacific halibut IFQ season. This would result in confusion for the industry and economic harm from unnecessary discard of sablefish that are caught along with Pacific halibut, as both hook-and-line sablefish and Pacific halibut are managed under the same IFQ program. Immediate effectiveness of the final 2010 and 2011 harvest specifications will allow the sablefish IFQ fishery to begin concurrently with the Pacific halibut IFQ season. Also, the immediate effectiveness of this action is required to provide consistent management and conservation of fishery resources based on the best available scientific information. This is particularly true of those species which have lower 2010 ABCs and TACs than those established in the 2009-2010 harvest specifications. Immediate effectiveness also would give the fishing industry the earliest possible opportunity to plan and conduct its fishing operations with respect to new information about TAC limits. Therefore, NMFS finds good cause to waive the 30-day delay in effectiveness under 5 U.S.C. 553(d)(3).

Small Entity Compliance Guide

The following information is a plain language guide to assist small entities in complying with this final rule as required by the Small Business Regulatory Enforcement Fairness Act of 1996. This final rule's primary purpose is to announce the final 2010 and 2011 harvest specifications and prohibited species bycatch allowances for the groundfish fisheries of the GOA. This action is necessary to establish harvest limits and associated management measures for groundfish during the 2010 and 2011 fishing years and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L 109-479.

Dated: March 9, 2010.
Samuel D. Rauch III,
Deputy Assistant Administrator for Regulatory Programs, National Marine Fisheries Service.

[FR Doc. 2010-5472 Filed 3-11-10; 8:45 am]

BILLING CODE 3510-22-P